NATIONAL ARCHIVES AND RECORDS ADMINISTRATION

Privacy Act of 1974 Republication of Systems of Records Notices

AGENCY: National Archives and Records Administration (NARA).

ACTION: Republication of Systems of Records Notices.

SUMMARY: The National Archives and Records Administration (NARA) is republishing 34 system of records notices in its existing inventory of record systems subject to the Privacy Act of 1974 (5 U.S.C. 552a), as amended, to incorporate minor corrective and administrative changes. NARA proposes to add one new system to its inventory, NARA 39, Visitor Ticketing Application (VISTA) Files; change the name of NARA 37 from “Order Online!” to “NARA Online Ordering System;” and to revise its routine uses (found in Appendix A) to incorporate routine use language recommended by the President's Task Force on Identity Theft. This routine use is being added to all of the systems in NARA's inventory. One system, among NARA's inventory of system notices, NARA 23, Office of Inspector General Investigative Case Files, was published in the Federal Register on June 6, 2007 [72 FR 31348]. That system notice is not republished here. The proposed changes are in compliance with OMB Circular No. A-130, Appendix I.

One system is being deleted from the inventory of systems notices because NARA no longer maintains the information (NARA 29, State Historical Records Advisory Board Member Files).

EFFECTIVE DATES: This proposed action will become effective without further notice on November 2, 2007, unless comments received on or before that date cause a contrary decision. If changes are made based on NARA's review of any comments received, a new final notice will be published.

ADDRESSES: NARA invites interested persons to submit comments on this system notice. Comments may be submitted by any of the following methods:

Mail: Send comments to: Privacy Act Officer, Office of General Counsel (NGC), Room 3110, National Archives and Records Administration, 8601 Adelphi Road, College Park, MD, 20740-6001.

Fax: Submit comments by facsimile transmission to 301-837-0293.

E-Mail: Send comments to ramona.oliver@nara.gov.

FOR FURTHER INFORMATION CONTACT: Ramona Branch Oliver, Privacy Act Officer, 301-837-2024 (voice) or 301-837-0293 (fax).

SUPPLEMENTARY INFORMATION: The NARA system of records notices subject to the Privacy Act of 1974 (5 U.S.C. 552a), as amended, have been published in the Federal Register. They are available on the Internet at http://www.archives.gov/foia/privacy-program/inventory.html or from the Privacy Act Officer, Office of General Counsel (NGC), Room 3110, National Archives and Records Administration, 8601 Adelphi Road, College Park, MD, 20740-6001.

The notice for each system of records states the name and the location of the record system, the authority for and manner of its operation, the categories of individuals that it covers, the types of records that it contains, the sources of information in these records, and the proposed “routine uses” of each system of records. Each notice also includes the business address of the NARA official who will inform interested persons of the procedures for gaining access to and correcting records pertaining to themselves.

One of the purposes of the Privacy Act, as stated in section 2(b)(4) of the Act, is to provide certain safeguards for an individual against an invasion of personal privacy by requiring Federal agencies to disseminate any record of identifiable personal information in a manner that assures that such action is for a necessary and lawful purpose, that information is current and accurate for its intended use, and that adequate safeguards are provided to prevent misuse of such information. NARA intends to follow these principles in transferring information to another agency or individual as a “routine use”, including assurance that the information is relevant for the purposes for which it is transferred.

The NARA notices and the inventory of routine uses, as amended, are published at the end of this notice.

Dated: September 25, 2007.
Allen Weinstein,
Archivist of the United States.

NARA 1

SYSTEM NAME:

Researcher Application Files.

SYSTEM LOCATION:

Researcher application files are maintained in the following locations in the Washington, DC area and other geographical regions. The addresses for these locations are listed in Appendix B following the NARA Notices:

(1) Customer Services Division;

(2) Presidential Libraries, Projects, and Staffs;

(3) Regional Records Services Facilities; and

(4) Washington National Records Center.

CATEGORIES OF INDIVIDUALS COVERED BY THE SYSTEM:

Individuals covered by this system include persons who apply to use original records for research in NARA facilities in the Washington, DC area, the Presidential libraries and projects, and the regional records services facilities.

CATEGORIES OF RECORDS IN THE SYSTEM:

Researcher application files may include: researcher applications; related correspondence; and electronic records. These files may contain the following information about an individual: name, address, telephone number, proposed research topic(s), occupation, name and address of employer/institutional affiliation, educational level and major field of study, expected result(s) of research, photo, researcher card number, type of records used, and other information furnished by the individual. Electronic systems may also contain additional information related to the application process.

AUTHORITY FOR MAINTENANCE OF THE SYSTEM:

44 U.S.C. 2108, 2111 note, and 2203(f)(1).

PURPOSE(S):

The information in this system is used to register researchers who wish to gain access to original records; to assist NARA in maintaining intellectual control over archival holdings and to refer related information to the Office of Inspector General if original records are determined to be missing or mutilated; to disseminate information related to events and programs of interest to NARA's researchers as appropriate; and measure customer satisfaction with NARA services. Aggregate information from this system may be used for the purposes of review, analysis, planning and policy formulation related to customer service staffing and facility needs.

ROUTINE USES OF RECORDS MAINTAINED IN THE SYSTEM, INCLUDING CATEGORIES OF USERS AND THE PURPOSES OF SUCH USES:

NARA maintains researcher application files on individuals to: register persons who apply to use original records for research at a NARA facility; record initial research interests of researchers; determine which records researchers may want to use; to contact researchers if additional information related to their research interest is found or if problems with the requested records are discovered; and prepare mailing lists for sending notices of events and programs of interest to researchers, including the fundraising and related activities of NARA-associated foundations, and invitations to participate in voluntary customer satisfaction surveys, unless individuals elect that their application information not be used for this purpose. The electronic databases serve as finding aids to the applications. Information in the system is also used by NARA staff to compile statistical and other aggregate reports regarding researcher use of records.

The routine use statements A, C, E, F, G, and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in the records may be retrieved by the name of the individual or by researcher card number.

SAFEGUARDS:

During normal hours of operation, paper records are maintained in areas accessible only to authorized personnel of NARA. Electronic records are accessible via passwords from workstations located in attended offices. After hours, buildings have security guards and/or doors are secured and all entrances are monitored by electronic surveillance equipment.

RETENTION AND DISPOSAL:

Researcher application files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

For researchers who apply to use records and Nixon presidential materials in the Washington, DC area, the system manager for researcher application files is: Assistant Archivist for Records Services—Washington DC (NW). For researchers who apply to use accessioned records, presidential records, and donated historical materials in the Presidential libraries, Presidential projects, and the regional records services facilities, the system managers of researcher application files are the directors of the individual libraries and regional records services facilities. For researchers who apply to use records on storage at the Washington National Records Center (WNRC), the system manager is the Director of the WNRC. The addresses for these locations are listed in Appendix B following the NARA Notices.

NOTIFICATION PROCEDURE:

Individuals interested in inquiring about their records should notify the NARA Privacy Act Officer, whose address is listed in Appendix B following the NARA Notices.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in researcher application files is obtained from researchers and from NARA employees who maintain the files.

NARA 2

SYSTEM NAME:

Reference Request Files.

SYSTEM LOCATION:

Reference request files are maintained in the following locations in the Washington, DC, area and other geographical regions. The addresses for these locations are listed in Appendix B following the NARA Notices:

(1) Office of Records Services—Washington, DC;

(2) National Historical Publications and Records Commission;

(3) Presidential Libraries, Projects, and Staffs; and

(4) Regional Records Services Facilities.

CATEGORIES OF INDIVIDUALS COVERED BY THE SYSTEM:

Individuals covered by this system include persons who request information from or access to accessioned, inactive, congressional, presidential records, presidential materials, and/or donated historical materials in the custody of organizational units located in the Washington, DC, area; Presidential Libraries, Projects, and Staffs; and Regional Records Services Facilities.

CATEGORIES OF RECORDS IN THE SYSTEM:

Reference request files may include: reference service slips; reference service databases; correspondence control registers and databases; and correspondence, including administrative forms used for routine inquiries and replies, between NARA staff and researchers. These files may contain some or all of the following information about an individual: name, address, telephone number, position title, name of employer/institutional affiliation, educational background, research topic(s), field(s) of interest, identification of requested records, credit card or purchase order information, and other information furnished by the researcher.

AUTHORITY FOR MAINTENANCE OF THE SYSTEM:

44 U.S.C. 2108, 2111 note, 2203(f)(2), and 2907.

ROUTINE USES OF RECORDS MAINTAINED IN THE SYSTEM, INCLUDING CATEGORIES OF USERS AND THE PURPOSES OF SUCH USES:

NARA maintains reference request files on individuals to: maintain control of records being used in a research room; establish researcher accountability for records; prepare replies to researchers' reference questions; record the status of researchers' requests and NARA replies to those requests; enable future contact with researchers, if necessary; and facilitate the preparation of statistical and other aggregate reports on researcher use of records. The routine use statements A, C, E, F, G and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in reference request files may be retrieved by: the name of the individual; the Record Group number; or the name, social security number, or military service number of the former civilian employee/veteran whose record was the subject of the request at the National Personnel Records Center.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Reference request files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

For reference request files located in organizational units in the Office of Records Services-Washington, DC, the system manager is the Assistant Archivist for Records Services-Washington, DC. For reference request files located in the National Historical Publications and Records Commission, the system manager is the Executive Director, National Historical Publications and Records Commission (NHPRC). For reference request files located in the following locations, the system manager is the director: Presidential Libraries, Projects, and Staffs; and Regional Records Services Facilities. The addresses for these locations are listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in reference request files is obtained from researchers and from NARA employees who maintain the files.

NARA 3

SYSTEM NAME:

Donors of Historical Materials Files.

SYSTEM LOCATION:

Donors of historical materials files are maintained in the following locations in the Washington, DC area and other geographical regions. The addresses for these locations are listed in Appendix B following the NARA Notices:

(1) Office of Records Services—Washington, DC organizational units;

(2) Office of Presidential Libraries:

(3) Presidential Libraries, Projects, and Staffs; and

(4) Regional Records Services Facilities.

CATEGORIES OF INDIVIDUALS COVERED BY THE SYSTEM:

Individuals covered by this system include donors and potential donors of historical materials and oral history interviews to the Office of Records Services—Washington, DC, Presidential Libraries, Projects, and Staffs, and Regional Records Services Facilities.

CATEGORIES OF RECORDS IN THE SYSTEM:

Categories of records in this system may include correspondence, deeds of gift, deposit agreements, accession files, accession cards, accession logs, inventories of museum objects, and oral history use agreements, all of which are related to the solicitation and preservation of donations and oral history interviews. These files may contain the following information about an individual: name, address, telephone number, occupation, and other biographical data as it relates to the solicitation and donation of historical materials and oral history interviews.

AUTHORITY FOR MAINTENANCE OF THE SYSTEM:

44 U.S.C. 2111 and 2112.

ROUTINE USES OF RECORDS MAINTAINED IN THE SYSTEM, INCLUDING CATEGORIES OF USERS AND THE PURPOSES OF SUCH USES:

NARA maintains donors of historical materials files on individuals to: Record deeds of gift and oral history use agreements; administer the solicitation of, accessioning of, and access to historical materials; maintain control over the accessions program; and facilitate future solicitations of gifts.

NARA may disclose these records to other Federal agencies and former presidents and their agents as NARA administers the access provisions of a deed of gift. The routine use statements A, F, G and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in donors of historical materials files may be retrieved by the name of the individual or by the accession number assigned to the donation.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Some donor and historical materials files are permanent records and are transferred to the National Archives of the United States in accordance with the disposition instructions in the NARA Records Schedule (a supplement to the NARA Files Maintenance and Records Disposition Manual). Other files have temporary dispositions and are destroyed in accordance with the instructions in the NARA Records Schedule. Individuals may request a copy of the disposition instructions from the NARA Privacy Act Officer.

SYSTEM MANAGER(S) AND ADDRESS:

For donors of historical materials files located in organizational units in the Office of Records Services—Washington, DC, the system manager is the Assistant Archivist for Records Services—Washington, DC, (NW). For donors of historical materials files located in the Office of Presidential Libraries, the system manager is the Assistant Archivist for Presidential Libraries (NL). For donors of historical materials files located in Presidential Libraries, Projects, and Staffs and the Regional Records Services Facilities, the system manager is the director of the individual Presidential Library, Project, or Staff or Regional Records Services Facility. The addresses for these locations are listed in Appendix B following the NARA Notices.

NOTIFICATION PROCEDURE:

Individuals interested in inquiring about their records should submit their request in writing to the NARA Privacy Act Officer at the address listed in Appendix B.

RECORD ACCESS PROCEDURES:

Individuals who wish to gain access to their records should submit their request in writing to the NARA Privacy Act Officer at the address listed above.

CONTESTING RECORD PROCEDURES:

NARA rules for contesting the contents and appealing initial determinations are found in 36 CFR part 1202.

RECORD SOURCE CATEGORIES:

Information in donors of historical materials files may be obtained from: donors; potential donors; NARA employees who maintain the files and handle solicitations and donations of historical materials and oral history interviews; associates and family members of donors; associates of former presidents; and published sources.

NARA 4

SYSTEM NAME:

Committee and Foundation Member Files

SYSTEM LOCATION:

Committee member files may be maintained in NARA organizational units that provide administrative support to or oversight of internal and inter-agency committees and external standards-setting and professional organizations. Committee member files may also be located in organizational units that provide administrative support to NARA's Federal advisory committees. Foundation member files for the Foundation for the National Archives are maintained in the Center for the National Archives Experience within the Office of Records Services—Washington, DC. Foundation member files for the private foundations that support the presidential libraries may be located at individual Presidential Libraries and Projects. The addresses are listed in Appendix B following the NARA Notices.

CATEGORIES OF INDIVIDUALS COVERED BY THE SYSTEM:

Individuals covered by this system include NARA employees who serve on committees and current and prospective members of NARA's Federal advisory committees, the National Archives Foundation, and foundations associated with the presidential libraries.

CATEGORIES OF RECORDS IN THE SYSTEM:

Committee and foundation member files may include correspondence, resumes, biographical statements, mailing lists, and travel documents. These files may contain the following information about an individual: name, address, telephone number, NARA correspondence symbol, educational background, employment history, list of professional accomplishments and awards, titles of publications, and other information furnished by the individual.

AUTHORITY FOR MAINTENANCE OF THE SYSTEM:

44 U.S.C. 2104.

ROUTINE USES OF RECORDS MAINTAINED IN THE SYSTEM, INCLUDING CATEGORIES OF USERS AND THE PURPOSES OF SUCH USES:

NARA maintains committee member files to: review professional qualifications of prospective committee members; document committee members' travel activities related to committee business; record the participation of committee members in committee activities; and contact members about future meetings and events. NARA maintains foundation member files in order to contact members about meetings, conferences and special events. The routine use statements A, F, G, and H described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in committee and foundation member files may be retrieved by the name of the individual or by the name of the committee or foundation.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Some committee member files are permanent records and are transferred to the National Archives of the United States in accordance with the disposition instructions in the NARA Records Schedule (a supplement to the NARA Files Maintenance and Records Disposition Manual). Other committee member [and foundation member—if applicable] files have temporary dispositions and are destroyed in accordance with the instructions in the NARA Records Schedule. Individuals may request a copy of the disposition instructions from the NARA Privacy Act Officer. One series of committee member files is unscheduled and, therefore, are retained until the Archivist of the United States approves one or more dispositions.

SYSTEM MANAGER(S) AND ADDRESS:

For committee member files the system manager is the Chief of the Policy and Planning Staff (NPOL). For working group member files, the system manager is the Assistant Archivist for Records Services—Washington, DC (NW). For the Foundation for the National Archives member files, the system manager is the Assistant Archivist for Records Services—Washington, DC (NW). For foundation member files located in the presidential libraries and projects, the system manager is the director of the individual Presidential Library or Project. The addresses for these locations are listed in Appendix B following the NARA Notices.

NOTIFICATION PROCEDURE:

Individuals interested in inquiring about their records should notify the NARA Privacy Act Officer at the address, listed in Appendix B following the NARA Notices.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in committee, working group, and foundation member files is obtained from NARA employees, current and prospective members of Federal advisory committees, working groups, foundations, and references furnished by such persons.

NARA 5

SYSTEM NAME:

Conference, Workshop, and Training Course Files.

SYSTEM LOCATION:

Conference, workshop, and training course files may be maintained in the following locations in the Washington, DC, area and other geographical regions. The addresses for these locations are listed in Appendix B following the NARA Notices:

(1) Office of Records Services—Washington, DC;

(2) Office of Administration;

(3) Presidential libraries, staffs, and projects; and

(4) Office of Regional Records Services.

CATEGORIES OF INDIVIDUALS COVERED BY THE SYSTEM:

Individuals covered by this system include attendees and speakers at NARA-sponsored conferences, workshops, and training courses.

CATEGORIES OF RECORDS IN THE SYSTEM:

Conference, workshop, and training course files maintained on attendees may include: Standard Forms 182, Request, Authorization, Agreement, and Certification of Training; application/registration forms; evaluations; other administrative forms; and copies of payment records. Files maintained on speakers may include correspondence, biographical statements, and resumes. These files may contain some or all of the following information about an individual: name, home address, business address, home telephone number, business telephone number, social security number, birth date, position title, name of employer/organization, employment history, professional awards, areas of expertise, research interests, reason(s) for attendance, titles of publications, and other information furnished by the attendee or speaker.

AUTHORITY FOR MAINTENANCE OF THE SYSTEM:

44 U.S.C. 2104, 2109, and 2904.

ROUTINE USES OF RECORDS MAINTAINED IN THE SYSTEM, INCLUDING CATEGORIES OF USERS AND THE PURPOSES OF SUCH USES:

NARA maintains files on attendees and speakers to: register attendees for conferences, workshops, training courses, and other events; contact attendees for follow-up discussions; plan, publicize, and document interest in current and future NARA-sponsored conferences, workshops, training courses, and special events; and prepare mailing lists in order to disseminate information on future events and publications of related interest. Information in the records is also used to prepare statistical and other reports on conferences, workshops, training courses, and other events sponsored by NARA.

NARA may disclose information on individuals in the files to outside organizations that co-sponsor conferences, workshops, training courses, and other events for purposes of administering the course or event. NARA may disclose information on an individual to the organization or agency that funded the individual's attendance. The routine use statements F and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in paper records may be retrieved by either the title or the date of the conference, workshop, training course, or event and thereunder by the name of the individual. Information in electronic records may be retrieved by the name of the individual.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Some of the conference, workshop, and training course files are permanent records and are transferred to the National Archives of the United States in accordance with the disposition instructions in the NARA Records Schedule (a supplement to the NARA Files Maintenance and Records Disposition Manual). Other files have temporary dispositions and are destroyed in accordance with the instructions in the NARA Records Schedule. Individuals may request a copy of the disposition instructions from the NARA Privacy Act Officer.

SYSTEM MANAGER(S) AND ADDRESS

For conference, workshop, and training course files located in the Office of Records Services—Washington, DC, the system manager is the Assistant Archivist for Records Services—Washington, DC (NW.). For files located in the Office of Human Resources Services, the system manager is the Assistant Archivist for Administration (NA). For files in the following locations, the system manager is the Director: Presidential Libraries and Projects, and Office of Regional Records Services. The addresses are listed in Appendix B following the NARA Notices.

NOTIFICATION PROCEDURE:

Individuals interested in inquiring about their records should notify the NARA Privacy Act Officer at the address is listed in Appendix B following the NARA notices.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in the files may be obtained from speakers, attendees, and potential speakers and attendees at NARA-sponsored conferences, workshops, and training courses, and from references provided by those individuals.

NARA 6

SYSTEM NAME:

Mailing List Files.

SYSTEM LOCATION:

Mailing lists may be maintained in the following NARA locations. The addresses for these locations are listed in Appendix B following the NARA Notices:

(1) Congressional and Public Affairs Staff;

(2) National Historical Publications and Records Commission;

(3) Public Programs Division;

(4) Organization and Staff Development Staff;

(5) Acquisitions Services Division;

(6) Presidential Libraries and Projects;

(7) Regional Records Services Facilities;

(8) Policy and Planning Staff; and

(9) Office of the Federal Register.

CATEGORIES OF INDIVIDUALS COVERED BY THE SYSTEM:

Individuals covered by this system may include: members of the media; members of Congress; members of the National Historical Publications and Records Commission; members of the Foundation for the National Archives; local, political, and other dignitaries; researchers and records managers; historians, archivists, librarians, documentary editors, and other professionals in related fields; educators; authors; subscribers to free and fee publications and newsletters; buyers of NARA products; vendors; and other persons with an interest in National Archives programs, exhibits, conferences, training courses, and other events.

CATEGORIES OF RECORDS IN THE SYSTEM:

In addition to names and addresses, mailing lists may include any of the following information about an individual: home/business telephone number; position title; name of employer, organization, and/or institutional affiliation; and subscription expiration date.

AUTHORITY FOR MAINTENANCE OF THE SYSTEM:

44 U.S.C. 2104, 2307 and 2904(c).

ROUTINE USES OF RECORDS MAINTAINED IN THE SYSTEM, INCLUDING CATEGORIES OF USERS AND THE PURPOSES OF SUCH USES:

NARA maintains mailing lists to generate address labels to: disseminate mailings of NARA publications, newsletters, press releases, and announcements of meetings, conferences, workshops, training courses, public and educational programs, special events, and procurements; send invitations for exhibit openings, lectures, and other special events; and send customers updated information about NARA holdings and about methods of requesting copies of accessioned and non-current records. The routine use statements F and H, described in Appendix A following the NARA Notices, also apply to this system of records.

POLICIES AND PRACTICES FOR STORING, RETRIEVING, ACCESSING, RETAINING, AND DISPOSING OF RECORDS IN THE SYSTEM:

STORAGE:

Electronic records from which paper records may be printed.

RETRIEVABILITY:

Information about individuals maintained in mailing lists may be retrieved by: the name of the individual; the name of an employer or institutional/organizational affiliation; the category of individuals/organizations on mailing lists; the city or zip code.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

When maintained for programs and functions for which the records have been scheduled, mailing lists are categorized as temporary records. Organizational units update these lists and purge outdated information as needed for the purposes previously cited. For those programs and functions for which mailing lists and all other records have not yet been scheduled, NARA is in the process of identifying and scheduling these records.

SYSTEM MANAGER(S) AND ADDRESS:

For mailing lists maintained in the previously cited locations (1) through (9), the system managers are:

(1) Director, Congressional and Public Affairs Staff (NCON);

(2) Executive Director, National Historical Publications and Records Commission (NHPRC);

(3) Assistant Archivist for Records Services—Washington, DC (NW);

(4) Assistant Archivist for Administration (NA);

(5) Assistant Archivist for Administration (NA);

(6) Directors, of the individual Presidential Libraries;

(7) Directors, of the individual Regional Records Services Facilities;

(8) Director, Policy and Planning Staff (NPOL); and

(9) Director of the Federal Register (NF).

The addresses are listed in Appendix B following the NARA Notices.

NOTIFICATION PROCEDURE:

Individuals interested in inquiring about their records should notify NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in mailing lists is obtained from individuals whose names are recorded on mailing lists for the purposes previously cited or from NARA employees who maintain the lists.

NARA 7

SYSTEM NAME:

Freedom of Information Act (FOIA) Request Files and Mandatory Review of Classified Documents Request Files

SYSTEM LOCATION:

Freedom of Information Act (FOIA) and mandatory review request files are maintained in the following locations. The addresses for these locations are listed in Appendix B following the NARA Notices.

(1) Office of the Federal Register;

(2) Office of the Inspector General;

(3) Office of General Counsel;

(4) Office of Records Services—Washington, DC;

(5) Regional Records Services Facilities; and

(6) Presidential Libraries, Projects, and Staffs.

CATEGORIES OF INDIVIDUALS COVERED BY THE SYSTEM:

Individuals covered by this system include persons who cite the Freedom of Information Act (FOIA) to request access to records and persons who request the mandatory review of security-classified materials under Executive Order 12958, as amended or predecessor orders.

CATEGORIES OF RECORDS IN THE SYSTEM:

Files for requests made under the Freedom of Information Act and the mandatory review provisions of Executive Order 12958, as amended (or predecessor orders) may include: correspondence control registers, logs, and databases; requests for access or mandatory review, appeal letters from requestors, NARA replies to original requests and appeals, and supporting documents; Certificate of Citizenship; and other administrative forms used in the process. These files may also contain information or determinations furnished by and correspondence with other Federal agencies. FOIA and mandatory review request files may contain some or all of the following information about an individual: name, address, telephone number, position title, name of employer/institutional affiliation, marital status, birthplace, birth date, citizenship, research interests, other information provided by the requestor, and copies of documents furnished to the requestor.

AUTHORITY FOR MAINTENANCE OF THE SYSTEM:

Executive Order 12958, as amended, its predecessor orders governing access to classified information, and 5 U.S.C. 552, as amended.

ROUTINE USES OF RECORDS MAINTAINED IN THE SYSTEM, INCLUDING CATEGORIES OF USERS AND THE PURPOSES OF SUCH USES:

NARA maintains FOIA and mandatory review request files on individuals to record: requests for records under the FOIA, requests for access to security-classified materials under the mandatory review provisions of Executive Order 12958, as amended and predecessor orders, and appeals of denials of access; actions taken on requests and appeals; and the status of requests and appeals in logs and databases. The records are also used to facilitate the preparation of statistical and other reports regarding use of the FOIA and the mandatory review provisions of Executive Order 12958, as amended.

NARA may disclose information in request files to agencies that have equity in the requested records in order for those agencies to review records for possible declassification and release. The routine use statements A, E, F, G and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in FOIA and mandatory review request files may be retrieved by one or more of the following data elements: the name of the individual; an alphanumeric case file number; a project number assigned to the request; the Record Group number; the type of request (FOIA or mandatory review); or the name, social security number, or military service number of the former civilian employee/veteran whose record was the subject of the request at the National Personnel Records Center.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Some of the Freedom of Information Act (FOIA) and Mandatory Review of Classified Documents Request files are permanent records and are transferred to the National Archives of the United States in accordance with the disposition instructions in the NARA Records Schedule (a supplement to the NARA Files Maintenance and Records Disposition Manual). Other files have temporary dispositions and are destroyed in accordance with the instructions in the NARA Records Schedule. Individuals may request a copy of the disposition instructions from the NARA Privacy Act Officer.

SYSTEM MANAGER(S) AND ADDRESS:

For Freedom of Information Act (FOIA) request files and mandatory review request files, the system managers are:

(1) For FOIA requests files maintained by the Office of Federal Register, the system manager is the Director of the Federal Register (NF);

(2) For FOIA request files related maintained by the Office of the Inspector General, the system manager is the Inspector General, Office of the Inspector General (OIG);

(3) For FOIA request files for NARA's operational records the system manager is the General Counsel, Office of General Counsel (NGC);

(4) For FOIA and mandatory review request files maintained by organizational units within the Office of Records Services—Washington, DC, the system manager is the Assistant Archivist for the Office of Records Services—Washington, DC.

(5) For FOIA and mandatory review request files maintained by Regional Record Services Facilities the system manager is the Director for the individual regional facility.

(6) For FOIA and mandatory review request files maintained by Presidential Libraries, Projects, and Staffs, the Director of the Library, Project, or Staff is the system manager. The addresses for these locations are listed in Appendix B following the NARA Notices.

NOTIFICATION PROCEDURE:

Individuals interested in inquiring about their records should notify NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR Part 1202.

RECORD SOURCE CATEGORIES:

Information in FOIA and mandatory review request files is obtained from persons who cite the FOIA to request access to records, researchers who request mandatory review of security-classified records, NARA employees who maintain the files and handle FOIA and mandatory review requests and appeals, and other agencies that have reviewed the requested records.

NARA 8

SYSTEM NAME:

Restricted and Classified Records Access Authorization Files.

SYSTEM LOCATION:

Restricted and classified records access authorization files are maintained in the following locations. The addresses are listed in Appendix B following the NARA Notices.

(1) Space and Security Management Division;

(2) Office of Records Services—Washington, DC;

(3) Regional Records Services Facilities;

(4) Presidential Libraries, Projects, and Staffs; and

(5) Office of General Counsel.

CATEGORIES OF INDIVIDUALS COVERED BY THE SYSTEM:

Individuals covered by the system include persons who request to use agency-restricted, donor-restricted, and security-classified records or materials in the custody of organizational units located in the Washington, DC, area; Regional Records Services Facilities; and Presidential Libraries, Projects, and Staffs. This includes records requested for the purpose of conducting statistical, social science or biomedical research in accordance with 36 CFR 1256.

CATEGORIES OF RECORDS IN THE SYSTEM:

Access authorization files include applications for access to restricted and classified records, letters of authorization from sponsoring agencies, other documentation related to security clearance levels, and information in an electronic database. These files may include some or all of the following information about an individual: name, address, telephone number, birth date, birthplace, citizenship, social security number, occupation, name of employer/institutional affiliation, security clearance level, basis of clearance, name of sponsoring agency, field(s) of interest, intention to publish, type of publication, subject(s) of restricted or classified records to be reviewed, the expiration date for authorization to review the records, and other information furnished by the requestor, including reference letters which may contain identifying information concerning a third party.

AUTHORITY FOR MAINTENANCE OF THE SYSTEM:

44 U.S.C. 2108 and 2204.

ROUTINE USES OF RECORDS MAINTAINED IN THE SYSTEM, INCLUDING CATEGORIES OF USERS AND THE PURPOSES OF SUCH USES:

NARA maintains restricted and classified records access authorization files on individuals to: maintain a record of requests for access to restricted and classified records; authorize and control access to restricted and classified records and materials; and facilitate preparation of statistical and other reports.

NARA may disclose information in these access authorization files to other agencies that have an equity in the restricted or classified records in order for agency officials to review access authorization requests. The routine use statements A, F, G and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in restricted and classified records access authorization files may be retrieved by some or all of the following: the name of the individual, the name of the sponsoring agency, Record Group number, or collection title.

SAFEGUARDS:

During business hours, paper records are maintained in areas accessible only to authorized NARA personnel. Electronic records are accessible via passwords from workstations located in attended offices. After business hours, buildings have security guards and/or doors are secured and all entrances are monitored by electronic surveillance equipment.

RETENTION AND DISPOSAL:

Restricted and classified records access authorization files are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

For restricted and classified records access authorization files the system managers are:

(1) For authorization files maintained by Space and Security Management Divisions, the system manager is the Assistant Archivist for Administration (NA);

(2) For access authorization files maintained by organizational units within the Office of Records Services—Washington, DC, the system manager is the Assistant Archivist for Records Services—Washington, DC (NW).

(3) For access authorization files maintained at a Regional Records Services Facility, the system manager is the Director of the Regional Records Services Facility.

(4) For access authorization files maintained by a Presidential Library, Project or Staff, the system manager is the Director of the Presidential Library, Project, or Staff.

(5) For access authorization files located in the Office of General Counsel (NGC) the system manager is the General Counsel.

The addresses for these locations are listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in these files is obtained from persons who request to use restricted and classified records, NARA employees who maintain the files, employers of requestors, and sponsoring agency officials.

NARA 9

SYSTEM NAME:

Authors Files.

SYSTEM LOCATION:

Authors files are maintained in the Congressional and Public Affairs Office (NCON), in the Washington, DC area.

CATEGORIES OF INDIVIDUALS COVERED BY THE SYSTEM:

Individuals covered by this system include authors who have submitted manuscripts for publication in Prologue: Quarterly of the National Archives or in other NARA publications.

CATEGORIES OF RECORDS IN THE SYSTEM:

Files on authors may include correspondence, resumes, biographical statements, and manuscript copies of articles. These records may contain some or all of the following information about an individual: name, address, telephone number, educational background, professional experience and awards, research interests, and titles of previous publications.

AUTHORITY FOR MAINTENANCE OF THE SYSTEM:

44 U.S.C. 2307.

ROUTINE USES OF RECORDS MAINTAINED IN THE SYSTEM, INCLUDING CATEGORIES OF USERS AND THE PURPOSES OF SUCH USES:

NARA maintains files on individual authors in order to: select authors' manuscripts for publishing in Prologue: Quarterly of the National Archives or in other NARA publications; maintain a record of authors' manuscripts; contact authors concerning re-publication of manuscripts and other related issues. The routine use statement F and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in authors files may be retrieved by the issue date of the publication and there under by the name of the individual.

SAFEGUARDS:

During normal hours of operation, records are maintained in areas accessible only to authorized personnel of NARA. After hours, buildings have security guards and/or doors are secured, and all entrances are monitored by electronic surveillance equipment.

RETENTION AND DISPOSAL:

Authors files are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

The system manager is: The Director of the Congressional Affairs and Public Affairs Office (NCON). The address for this location is listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in authors files is obtained from authors or their agents.

NARA 10 [RESERVED]

NARA 11

SYSTEM NAME:

Credentials and Passes.

SYSTEM LOCATION:

Records related to credentials and passes are maintained at the following locations in the Washington, DC area and other geographical regions. The addresses are listed in Appendix B following the NARA Notices.

(1) Policy and Planning Staff;

(2) Space and Security Management Division;

(3) Facilities and Personal Property Management Division;

(4) Office of the Federal Register;

(5) Regional Records Services Facilities;

(6) Presidential Libraries, Projects and Staffs; and

(7) Washington National Records Center.

CATEGORIES OF INDIVIDUALS COVERED BY THE SYSTEM:

Individuals covered by this system may include NARA employees, volunteers, contractors at all NARA facilities, and employees or contractors of other federal agencies temporarily stationed at NARA.

CATEGORIES OF RECORDS IN THE SYSTEM:

Credentials and passes may include: Copies of official passport records; copies of identification badges; and administrative forms and information in electronic databases used to generate NARA identification badges and access cards and to issue room and stack area keys and parking space permits. Credentials and passes may contain some or all of the following information about an individual:

1. Official passport records: Copies of passport application records which include: Name; photograph; name of agency (NARA); address; telephone number; social security number; position title; grade; birth date; height; weight; color of hair and eyes; passport number; passport issue and expiration dates;

2. Copies of identification badges and administrative forms and information in electronic databases used to generate NARA identification badges and access cards: Name; photograph; NARA correspondence symbol; office telephone number; social security number; position title; grade; name of agency or firm (contractors only); birth date; height; weight; color of hair and eyes; identification/access card number; card issue and expiration dates; building locations, time zones, and reasons for required access; signatures of the individual and authorized officials; and dates of signatures;

3. Administrative forms and information in electronic databases used to issue room and stack area keys: Name; NARA correspondence symbol; office telephone number; building room number/stack area; type of key issued (single door or stack master); key tag number; signatures of the individual and authorized official; and dates of signatures; and

4. Administrative forms used to assign parking spaces: Name; address; office telephone number; name of agency; make, year, and license number of vehicle; signatures of carpool members; and dates of signatures.

AUTHORITY FOR MAINTENANCE OF THE SYSTEM:

44 U.S.C. 2104.

ROUTINE USES OF RECORDS MAINTAINED IN THE SYSTEM, INCLUDING CATEGORIES OF USERS AND THE PURPOSES OF SUCH USES:

NARA maintains records on individuals in order to facilitate the issuance and control of Government passports, NARA identification badges, access cards, room and stack area keys, and parking space permits. At the National Archives at College Park, information in an electronic database is used to generate single badges that identify individuals and electronically allow individuals to enter and exit secured and non-secured areas of the building. Routine use statements A, B, C, D, E, F, G and H, described in Appendix A following the NARA Notices, also apply to this system of records.

STORAGE:

Paper and electronic records.

RETRIEVABILITY:

Information in credentials and passes may be retrieved by the name of the individual, identification card number, and/or social security number.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Credentials and passes are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system managers for the following types of credentials and passes are:

1. Official passport records: Director, Policy and Communications Staff (NPOL);

2. Records used for NARA identification badges and access cards for employees and volunteers in the Washington, DC area, for badges and access cards for contractors at the National Archives Building and the National Archives at College Park, and for key issuance and parking control at the National Archives Building and the National Archives at College Park: Assistant Archivist for Administration (NA).

3. Records used for NARA identification badges and access cards for contractors and for key issuance and parking control at the Washington National Records Center: Director, Washington National Records Center (NWMW).

4. Records used for key issuance and parking control at the Office of the Federal Register: Director of the Federal Register (NF).

5. Records used for NARA identification badges and access cards and for key issuance and parking control at the National Personnel Records Center, Presidential Libraries and Projects, and Regional Records Services Facilities: Directors of the National Personnel Records Center, Presidential Libraries and Projects, and Regional Records Services Facilities. The addresses for these locations are listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in credentials and passes is obtained from individuals being issued credentials and passes from authorized issuing officials.

NARA 12

SYSTEM NAME:

Emergency Notification Files.

SYSTEM LOCATION:

Emergency notification lists are maintained in the Space and Security Management Division at the National Archives at College Park. Local emergency notification files are maintained in all NARA facilities nationwide. The addresses for these locations are listed in Appendix B following the NARA Notices.

CATEGORIES OF INDIVIDUALS COVERED BY THE SYSTEM:

Individuals covered by this system include NARA employees who have been designated as primary and alternate emergency contact personnel.

CATEGORIES OF RECORDS IN THE SYSTEM:

Emergency notification files include lists of names of NARA officials, cover memoranda, and administrative forms. These files may contain some or all of the following information about an individual: Name, correspondence symbol, home address, business and home telephone numbers, position title, and emergency assignments.

AUTHORITY FOR MAINTENANCE OF THE SYSTEM:

44 U.S.C. 2104.

ROUTINE USES OF RECORDS MAINTAINED IN THE SYSTEM, INCLUDING CATEGORIES OF USERS AND THE PURPOSES OF SUCH USES:

NARA maintains current directory information on designated NARA employees to contact outside of business hours in case of emergencies involving NARA facilities, including records storage areas, and to notify these employees of weather and energy emergencies that would result in the closing of Government offices. The routine use statement A, D, F and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in emergency notification files may be retrieved by the name of the individual or the facility.

SAFEGUARDS:

During business hours, records are maintained in areas accessible only to authorized NARA personnel and contractors. Electronic records are accessible via passwords from workstations located in attended offices. After business hours, buildings have security guards and/or secured doors, and all entrances are monitored by electronic surveillance equipment. Authorized individuals may maintain copies in additional locations.

RETENTION AND DISPOSAL:

Emergency notification files are unscheduled records and, therefore, are retained until the Archivist of the United States approves dispositions. NARA is in the process of scheduling emergency notification records.

SYSTEM MANAGER(S) AND ADDRESS:

The system manager for the NARA-wide and Washington, DC, area notification lists is the Assistant Archivist for Administration (NA). The system managers for local emergency notification files are the Directors of the Federal Records Centers, Presidential Libraries, Projects and Staffs, and Regional Records Services Facilities. The addresses for these locations are listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in emergency notification files is obtained from the NARA employees whose names appear on emergency notification lists and forms.

NARA 13

SYSTEM NAME:

Defunct Agency Records.

SYSTEM LOCATION:

Defunct agency records may be located in the Regional Records Services Facilities at the locations listed in Appendix B following the NARA Notices.

CATEGORIES OF INDIVIDUALS COVERED BY THE SYSTEM:

Individuals covered by this system include employees of a defunct agency and those persons who may have had dealings with the agency prior to termination.

CATEGORIES OF RECORDS IN THE SYSTEM:

This system includes those records of an agency whose existence has been terminated with no successor in function. This system also contains those records that were maintained by a defunct agency in an internal Privacy Act system of records. Categories of personal information maintained on individuals in these records are described in the Privacy Act system notices previously published by the originating agency. Defunct agency records that are located in the Regional Records Services Facilities may be temporary records or permanent records that have not yet been transferred to the custody of the Archivist of the United States.

AUTHORITY FOR MAINTENANCE OF THE SYSTEM:

44 U.S.C. 2104, 2107, 2108, 2907, 2908, and 3104.

ROUTINE USES OF RECORDS MAINTAINED IN THE SYSTEM, INCLUDING CATEGORIES OF USERS AND THE PURPOSES OF SUCH USES:

If records of a defunct agency are unscheduled, NARA may review the records during the appraisal process in order to determine the disposition of the records. NARA may disclose the records, while providing reference service on the records, in accordance with the routine uses in the Privacy Act notices previously published by the defunct agency. The routine use statements A, F, G and H, described in Appendix A following the NARA notices, also apply to this system of records.

POLICIES AND PRACTICES FOR STORING, RETRIEVING, ACCESSING, RETAINING, AND DISPOSING OF RECORDS IN THE SYSTEM:

STORAGE:

Paper, electronic, and microfilm records.

RETRIEVABILITY:

Information in records of a defunct agency may be retrieved by the name of the individual or by other identifier established by the defunct agency when the records were maintained by that agency.

SAFEGUARDS:

During business hours, records are maintained in areas accessible only to authorized NARA personnel. After business hours, buildings have security guards and/or secured doors, and all entrances are monitored by electronic surveillance equipment.

RETENTION AND DISPOSAL:

Records of a defunct agency that are appraised as temporary are destroyed in accordance with the records disposition instructions approved by the Archivist of the United States. Records of a defunct agency that are appraised as permanent are transferred to the National Archives of the United States.

SYSTEM MANAGER(S) AND ADDRESS:

The system managers for records of defunct agencies are the directors of the Regional Records Services Facilities. The addresses for these locations are listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Upon termination of an agency with no successor in function, the agency transfers its records to the custody of NARA. Prior to termination, the agency has described record source categories in its Privacy Act system notices for agency records.

NARA 14

SYSTEM NAME:

Payroll and Time and Attendance Reporting System Records.

SYSTEM LOCATION:

Payroll and time and attendance reporting system records are located in NARA organizational units nationwide that employ timekeepers. The addresses for Washington, DC area offices and staffs and regional facilities are listed in Appendix B following the NARA Notices. An electronic record-keeping system, the Electronic Time and Attendance Management System (ETAMS), is maintained for NARA by the General Services Administration (GSA) under a reimbursable agreement.

CATEGORIES OF INDIVIDUALS COVERED BY THE SYSTEM:

Individuals covered by this system include current and former NARA employees.

CATEGORIES OF RECORDS IN THE SYSTEM:

Payroll and time and attendance files may include: Office of Personnel Management (OPM) Form 71, Request for Leave or Approved Absence; GSA Form 873, Annual Attendance Record; NA Form 3004, Intermittent Employees Attendance Record; NA Form 3032A or B, time and Attendance Log; and the electronic system, the Employee Time and Attendance Reporting System (ETAMS). These paper and electronic records may contain some or all of the following information about an individual: name; address; correspondence symbol; telephone number; social security number; birth date; position title; grade; hours of duty; and salary, payroll and related information (e.g., withholding status, voluntary deductions, financial institution), and attendance information.

AUTHORITY FOR MAINTENANCE OF THE SYSTEM:

5 U.S.C., 2101 through 8901 is the authority for the overall system. Specific authority for use of social security numbers is contained in Executive Order 9397, 26 CFR 31.6011(b)2, and 26 CFR 31.6109-1.

ROUTINE USES OF RECORDS MAINTAINED IN THE SYSTEM, INCLUDING CATEGORIES OF USERS AND THE PURPOSES OF SUCH USES:

NARA and GSA maintain payroll, time and attendance reporting system records on individual NARA employees to carry out payroll functions and account for employee work hours.

To the extent necessary, NARA and GSA may disclose information in these records to outside entities for the monitoring and documenting of grievance proceedings, EEO complaints, and adverse actions, and for conducting counseling sessions. NARA, GSA, and other NARA agents may disclose information in the files to state offices of unemployment compensation in connection with claims filed by NARA employees for unemployment compensation. NARA and GSA may disclose information in this system of records to the Office of Management and Budget in connection with the review of private relief legislation. NARA and GSA may disclose information in these records to the Office of Personnel Management for its production of summary descriptive statistics or for related work studies; while published statistics and studies do not contain individual identifiers, the selection of elements of data included in studies may be structured in a way that makes individuals identifiable by inference. The routine use statements A, B, C, D, E, F, G, and H described in Appendix A following the NARA Notices, also apply to this system of records.

POLICIES AND PRACTICES FOR STORING, RETRIEVING, ACCESSING, RETAINING, AND DISPOSING OF RECORDS IN THE SYSTEM:

STORAGE:

Paper, microfiche, and electronic records.

RETRIEVABILITY:

Information in payroll, time and attendance reporting system records may be retrieved by the name of the individual or by social security number.

SAFEGUARDS:

During business hours, paper records are maintained in areas accessible only to authorized NARA personnel. Electronic records are accessible via passwords from terminals located in attended offices. After business hours, buildings have security guards and/or secured doors, and all entrances are monitored by electronic surveillance equipment.

RETENTION AND DISPOSAL:

Payroll and time and attendance paper records are temporary records and are destroyed in accordance with the disposition instructions in the NARA Records Schedule (a supplement to, the NARA Files Maintenance and Records Disposition Manual). Electronic records in PAR are temporary records whose disposition is governed by the General Records Schedules. Individuals may request a copy of the disposition instructions from the NARA Privacy Act Officer.

SYSTEM MANAGER(S) AND ADDRESS:

The system manager for the electronic system and paper records sent to the National Payroll Center as input to that system is: Chief, National Payroll Center (6BCY-N), General Services Administration, Room 1118, 1500 East Bannister Rd., Kansas City, MO 64414. System managers for paper records maintained in NARA offices such as OPM Forms 71 and sign-in sheets are the office heads and staff directors of individual offices and staffs in the Washington, DC, area and the directors of Presidential Libraries and Projects, and Regional Records Services Facilities. The system manager for unemployment compensation records is the Assistant Archivist for Administration. The addresses for these locations are listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in payroll and time and attendance reporting system records is obtained from: current and former NARA employees themselves, timekeepers, supervisors of employees, GSA payroll specialists, and other Federal agencies for which the individual worked.

NARA 15

SYSTEM NAME:

Freelance Editor/Indexer Files.

SYSTEM LOCATION:

Freelance editor/indexer files are located in the Product Development Staff (NWCD) in the Washington, DC, area.

CATEGORIES OF INDIVIDUALS COVERED BY THE SYSTEM:

Individuals covered by this system include freelance editors and indexers with whom NARA has contracted for editing and indexing services or who have expressed an interest in performing such services for NARA.

CATEGORIES OF RECORDS IN THE SYSTEM:

Freelance editor/indexer files may include correspondence, resumes, biographical statements, evaluations, examples of previous work, invoices, and certifications for payment. These records may contain some or all of the following information about an individual: name, address, telephone number, educational background, professional experience and awards, research interests, titles of publications, and other information furnished by the individual.

AUTHORITY FOR MAINTENANCE OF THE SYSTEM:

44 U.S.C. 2104, 2109, and 2307.

ROUTINE USES OF RECORDS MAINTAINED IN THE SYSTEM, INCLUDING CATEGORIES OF USERS AND THE PURPOSES OF SUCH USES:

NARA maintains freelance editor/indexer files on individuals to: review professional qualifications of editors and indexers; make assignments and indicate assignment completion dates; evaluate the quality of work performed during assignments; and document editing and indexing expenditures for budgetary purposes. The routine use statements A, F, G, and H described in Appendix A following the NARA Notices, also apply to this system of records.

POLICIES AND PRACTICES FOR STORING, RETRIEVING, ACCESSING, RETAINING, AND DISPOSING OF RECORDS IN THE SYSTEM:

STORAGE:

Paper records.

RETRIEVABILITY:

Information in freelance editor/indexer files may be retrieved by the name of the individual.

SAFEGUARDS:

During business hours, records are maintained in areas accessible only to authorized NARA personnel. After business hours, buildings have security guards and/or secured doors, and all entrances are monitored by electronic surveillance equipment.

RETENTION AND DISPOSAL:

Freelance editor/indexer files are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

The system manager is Assistant Archivist for Office of Records Services—Washington, DC (NW). The address is listed in Appendix B following the NARA notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in freelance editor/indexer files may be obtained from: freelance editors and indexers with whom NARA has contracted to perform editing and indexing services; freelance editors and indexers who have expressed an interest in performing services for NARA; NARA employees who maintain the files; and references furnished by freelance editors and indexers.

NARA 16

SYSTEM NAME:

Library Circulation Files.

SYSTEM LOCATION:

Library circulation files are located at the National Archives Library in the Washington, DC area and at Presidential Libraries. The addresses are listed in Appendix B following the NARA notices.

CATEGORIES OF INDIVIDUALS COVERED BY THE SYSTEM:

Individuals covered by this system include all NARA employees and researchers who have borrowed books and other materials from the library collections of the National Archives Library and/or the Presidential Libraries.

CATEGORIES OF RECORDS IN THE SYSTEM:

Library circulation files contain the following information about an individual: name, correspondence symbol or address, telephone number, titles and call numbers of items borrowed, and dates that the items were borrowed.

AUTHORITY FOR MAINTENANCE OF THE SYSTEM:

44 U.S.C. 2104.

ROUTINE USES OF RECORDS MAINTAINED IN THE SYSTEM, INCLUDING CATEGORIES OF USERS AND THE PURPOSES OF SUCH USES:

NARA maintains library circulation files on individuals in order to control the circulation of library books, periodicals, and other materials in NARA's library collections. The routine use statements A F, G and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in library circulation files may be retrieved by the name of an individual, by the title of the item charged out, or by the call number for the item.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Library circulation files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager for library circulation files in the Washington, DC area is: Assistant Archivist, Office of Records Services—Washington, DC (NW). The system managers for library circulation files in the Presidential Libraries are the directors of the individual Libraries. The addresses for the locations are listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in library circulation files is obtained from NARA employees and researchers who borrow books and other materials from the library collections of the National Archives Library and/or the Presidential Libraries.

NARA 17

SYSTEM NAME:

Grievance Records

SYSTEM LOCATION:

Grievance records are maintained in Employee Relations and Benefits Branch locations at the National Archives at College Park, MD and in St. Louis, MO.

CATEGORIES OF INDIVIDUALS COVERED BY THE SYSTEM:

Individuals covered by this system include current and former NARA employees who have submitted grievances to NARA in accordance with Office of Personnel Management (OPM) Regulations (5 CFR part 771) or in accordance with internal negotiated grievance procedures.

CATEGORIES OF RECORDS IN THE SYSTEM:

Grievance records may include statements of witnesses, reports of interviews and hearings, findings and recommendations of examiners, copies of the original and final decisions, and related correspondence and exhibits. These files may contain some or all of the following information about an individual: name, address, social security number, correspondence symbol, telephone number, occupation, grade, salary information, educational background, employment history, medical information, and names of supervisors and witnesses.

AUTHORITY FOR MAINTENANCE OF THE SYSTEM:

5 U.S.C. 1302, 3301, 3302, and 7121; Executive Order 10577 (3 CFR 1954 through 1958); Executive Order 10987 (3 CFR 1959 through 1963).

ROUTINE USES OF RECORDS MAINTAINED IN THE SYSTEM, INCLUDING CATEGORIES OF USERS AND THE PURPOSES OF SUCH USES:

NARA maintains grievance records on individuals in order to process grievances submitted by or on behalf of NARA employees in accordance with OPM Regulations or internal negotiated grievance procedures.

NARA may disclose only enough information in grievance records to any source from which additional information is requested in the course of processing a grievance in order to: identify the source to the extent necessary, inform the source of the purpose(s) of the request, and identify the type of information requested from the source. NARA may also disclose information in grievance files to officials of labor organizations recognized under the Civil Service Reform Act when the information is relevant to the officials' duties of exclusive presentation concerning personnel policies, practices, and matters affecting work conditions. The routine use statements A, D, E, F, G, and H described in Appendix A following the NARA Notices, also apply to this system of records.

POLICIES AND PRACTICES FOR STORING, RETRIEVING, ACCESSING, RETAINING, AND DISPOSING OF RECORDS IN THE SYSTEM:

STORAGE:

Paper and electronic records

RETRIEVABILITY:

Information in grievance records may be retrieved by the name of the individual.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Grievance files are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

The system manager is the Assistant Archivist for Administration (NA). The address for this location is listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

Review of requests from individuals seeking amendment of their records which have been the subject of a judicial or quasi-judicial action will be limited in scope. Review of amendment requests of these records will be restricted to determine if the record accurately documents the action of the NARA ruling on the case and will not include a review of the merits of the action, determination, or finding. NARA rules for contesting the contents and appealing initial determinations are found in 36 CFR part 1202.

RECORD SOURCE CATEGORIES:

Information in grievance records may be obtained from: individuals on whom records are maintained, witnesses, NARA officials, and NARA and GSA payroll and personnel specialists.

NARA 18

SYSTEM NAME:

General Law Files.

SYSTEM LOCATION:

Records are located in the Office of the General Counsel in the Washington, DC, area.

CATEGORIES OF INDIVIDUALS COVERED BY THE SYSTEM:

Individuals covered by this system include: current and former NARA employees, other Federal agency employees, individual members of the public, witnesses in litigation, persons who have requested records under the Freedom of Information Act and/or the Privacy Act, persons about whom requests under the Freedom of Information Act and/or the Privacy Act have been made, and persons involved in litigation to which NARA is a party.

CATEGORIES OF RECORDS IN THE SYSTEM:

Records in the system may contain some or all of the following information about an individual: name, social security number, position description, grade, salary, work history, complaint, credit ratings, medical diagnoses and prognoses, and doctor's bills. The system may also contain other records such as: case history files, copies of applicable law(s), working papers of attorneys, testimony of witnesses, background investigation materials, correspondence, damage reports, contracts, accident reports, pleadings, affidavits, estimates of repair costs, invoices, litigation reports, financial data, and other data.

AUTHORITY FOR MAINTENANCE OF THE SYSTEM:

5 U.S.C. 552; 5 U.S.C. 552a; 5 U.S.C., Part II; 5 U.S.C., Chapter 33; 5 U.S.C. 5108, 5314-5316 and 42 U.S.C. 20003, et seq.; 5 U.S.C. 7151-7154; 5 U.S.C. 7301; 5 U.S.C. 7501, note (adverse actions); 5 U.S.C., Chapter 77; 5 U.S.C. App.; 28 U.S.C. 1291, 1346(b)(c), 1402(b), 1504, 2110; 31 U.S.C. 3701, 3711, 3713, 3717, 3718, 3721.

ROUTINE USES OF RECORDS MAINTAINED IN THE SYSTEM, INCLUDING CATEGORIES OF USERS AND THE PURPOSES OF SUCH USES:

Records are used to: give general legal advice, as requested, throughout NARA; prepare attorneys for hearings and trials; reference past actions; and maintain internal statistics. Information may be disclosed to the Department of Justice in review, settlement, defense, and prosecution of claims, complaints, and lawsuits involving contracts, torts, debts, bankruptcy, personnel adverse action, EEO, unit determination, unfair labor practices, and Freedom of Information and Privacy Act requests. Information may be disclosed to the Office of Government Ethics (OGE) to obtain OGE advice on an ethics issue, to refer possible ethics violations to OGE, or during an OGE evaluation of NARA's Ethics Program. The routine use statements A, B, C, D, E, F, G, and H, described in Appendix A following the NARA notices, also apply to this system of records.

POLICIES AND PRACTICES FOR STORING, RETRIEVING, ACCESSING, RETAINING, AND DISPOSING OR RECORDS IN THE SYSTEM:

STORAGE:

Paper and electronic records.

RETRIEVABILITY:

Information may be obtained by the name of the individual or by a case number assigned by the court or agency hearing the complaint or appeal.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Most files are temporary records and are destroyed in accordance with disposition instructions in the NARA Records Schedule (a supplement to, the NARA Files Maintenance and Records Disposition Manual). Significant litigation files are permanent records that are eventually transferred to the National Archives of the United States. Individuals may request a copy of the disposition instructions from the NARA Privacy Act Officer.

SYSTEM MANAGER(S) AND ADDRESS:

The system manager is the NARA General Counsel (NGC). The address for this location is listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in this system of records comes from one or more of the following sources: Federal employees and private parties involved in torts and employee claims, contracts, personnel actions, unfair labor practices, and debts concerning the Federal Government; witnesses; and doctors and other health professionals.

NARA 19

SYSTEM NAME:

Workers Compensation Case Files.

SYSTEM LOCATION:

Workers compensation case files are located in the Human Resources Services office at the National Archives at College Park, and in the administrative offices of field units. The addresses are listed in Appendix B following the NARA notices.

CATEGORIES OF INDIVIDUALS COVERED BY THE SYSTEM:

Individuals covered by this system include NARA employees and former employees who have reported on CA-1 or CA-2 work-related injuries or other occupational health problems.

CATEGORIES OF RECORDS IN THE SYSTEM:

Workers compensation case files may include: accident reports, including CA-1 & 2, Federal Employees Notice of Injury or Occupational Disease; CA-4, Claims For Compensation for Injury or Occupation Disease; CA-8, Claims for Continuance of Compensation on Account of Disability; time and attendance reports, and medical reports from physicians and other health care professionals. These files may contain some or all of the following information about an individual: name, address, correspondence symbol, telephone number, occupation, birth date, names of supervisors and witnesses, and medical information related to work-related accidents or other occupational health problems.

AUTHORITY FOR MAINTENANCE OF THE SYSTEM:

5 U.S.C. 7902 and Chapter 81.

ROUTINE USES OF RECORDS MAINTAINED IN THE SYSTEM, INCLUDING CATEGORIES OF USERS AND THE PURPOSES OF SUCH USES:

NARA maintains workers compensation case files on individuals in order to identify and record information about those NARA employees who have sustained injuries or reported other occupational health problems, and to facilitate the preparation of statistical and other reports regarding work-related injuries or other occupational health problems. NARA may disclose information in the files to a Federal, State, or local public health service agency, concerning individuals who have contracted certain communicable diseases or conditions. NARA may disclose information in the files to the Department of Labor for purposes of administering the workers compensation program. NARA may disclose information in the files to the Occupational Safety and Health Administration for the purposes of monitoring workplace health and safety issues. The routine use statements A, B, C, D, E, F, G, and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in workers compensation case files may be retrieved by the name of the individual.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Workers compensation case files are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

The system manager is: Assistant Archivist for Administration (NA). The address for this location is listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in workers compensation case files may be obtained from: individuals to whom the records pertain, NARA supervisors, NARA personnel specialists, physicians, others providing health care services, and the Department of Labor.

NARA 20

SYSTEM NAME:

Reviewer/Consultant Files.

SYSTEM LOCATION:

Reviewer/consultant files are located at the National Historical Publications and Records Commission (NHPRC) in Washington, DC.

CATEGORIES OF INDIVIDUALS COVERED BY THE SYSTEM:

Individuals covered by the system include persons who have expressed an interest in or have served as reviewers or consultants for the NHPRC records or publications grant programs.

CATEGORIES OF RECORDS IN THE SYSTEM:

Reviewer/consultant files may include resumes, biographical statements, correspondence, and lists containing some or all of the following information about an individual: name, address, telephone number, educational background, professional experience and awards, and titles of publications.

AUTHORITY FOR MAINTENANCE OF THE SYSTEM:

44 U.S.C. 2501 through 2506.

ROUTINE USES OF RECORDS MAINTAINED IN THE SYSTEM, INCLUDING CATEGORIES OF USERS AND THE PURPOSES OF SUCH USES:

NHPRC maintains reviewer/consultant files on individuals in order to select reviewers who will evaluate proposals received for the records and publications grant programs, and to recommend archival consultants for those State and non-state organizations that have received grants for records and publications projects. NARA may disclose to grant recipients the lists of names of potential consultants, in order for the recipients to contact individuals who have expressed an interest in serving as consultants on grant projects. The routine use statements F and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in reviewer/consultant files may be retrieved by the name of the individual or the proposal evaluated by the reviewer.

SAFEGUARDS:

During business hours, records are maintained in areas accessible only to authorized NARA personnel. Electronic records are accessible via passwords from workstations located in attended offices. After hours, the building has security guards and/or doors are secured and all entrances are monitored by electronic surveillance equipment.

RETENTION AND DISPOSAL:

Reviewer/consultant files are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

The system manager for reviewer/consultant files is the Executive Director, National Historical Publications and Records Commission (NHPRC). The address for this location is listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in reviewer/consultant files may be obtained from reviewers and consultants and from references furnished by them.

NARA 21

SYSTEM NAME:

National Historical Publication and Records Commission Fellowship and Editing Institute Application Files

SYSTEM LOCATION:

Fellowship and Editing Institute application files are located in the National Historical Publications and Records Commission (NHPRC) in the Washington, DC area.

CATEGORIES OF INDIVIDUALS COVERED BY THE SYSTEM:

Individuals covered by this system include applicants for NHPRC fellowships in archival administration and advanced historical editing and for the annual Institute for the Editing of Historical Documents.

CATEGORIES OF RECORDS IN THE SYSTEM:

Fellowship and Editing Institute application files may include application forms, correspondence, resumes, college transcripts, and evaluations. These records may contain some or all of the following information about an individual: Name; address; telephone number; educational background; professional experience and awards; archival and historical records experience; titles of publications; and other information provided in letters of reference furnished by applicants and in evaluations completed by fellowship institutions and documentary editing projects.

AUTHORITY FOR MAINTENANCE OF THE SYSTEM:

44 U.S.C. 2504 and 2506.

ROUTINE USES OF RECORDS MAINTAINED IN THE SYSTEM, INCLUDING CATEGORIES OF USERS AND THE PURPOSES OF SUCH USES:

NHPRC maintains fellowship and Editing Institute application files on individuals in order to: Evaluate the preliminary eligibility of applicants for fellowships; jointly select, with the director of the Editing Institute, applicants to attend the Institute for the Editing of Historical Documents; and oversee grant-making and grant administration programs. NHPRC discloses copies of individuals' fellowship application files to officials of fellowship institutions and documentary editing projects for the purposes of selecting fellows and administering fellowships in archival administration and advanced historical editing. NHPRC discloses copies of individuals' Editing Institute applications to the director of the Editing Institute to select applicants to attend the annual Institute and to determine the most useful areas of instruction for successful applicants. The routine use statements A, F and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in fellowship and Editing Institute application files may be retrieved by the name of the individual.

SAFEGUARDS:

During business hours, records are maintained in areas accessible only to authorized NARA personnel. Electronic records are accessible via passwords from workstations located in attended offices. After business hours, buildings have security guards and/or secured doors, and all entrances are monitored by electronic surveillance equipment.

RETENTION AND DISPOSAL:

Nearly all fellowship application files and all Editing Institute application files are temporary records and are destroyed in accordance with the disposition instructions in the NARA Records Schedule (a supplement to, the NARA Files Maintenance and Records Disposition Manual). However, on occasion, files for accepted fellowship applications may be selected by the Executive Director for inclusion in grant case files that have met established criteria for permanent retention in the National Archives of the United States. Individuals may request a copy of the disposition instructions from the NARA Privacy Act Officer.

SYSTEM MANAGER(S) AND ADDRESS:

The system manager is the Executive Director, National Historical Publications and Records Commission (NHPRC), Washington, DC. The address for this location is listed in Appendix B following the NARA notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in fellowship and Editing Institute application files may be obtained from: Applicants for fellowships in archival administration or advanced historical editing under the NHPRC grant program; applicants for the Institute for the Editing of Historical Documents; references furnished by applicants; and officials of fellowship institutions, documentary editing projects, and the Institute for the Editing of Historical Documents.

NARA 22

SYSTEM NAME:

Employee Related Files.

SYSTEM LOCATION:

Employee related files may be maintained at supervisory or administrative offices at all NARA facilities.

CATEGORIES OF INDIVIDUALS COVERED BY THE SYSTEM:

Individuals covered by this system include former and current NARA employees and relatives of employees of the National Personnel Records Center.

CATEGORIES OF RECORDS IN THE SYSTEM:

Employee related files consist of a variety of employee related records maintained for the purpose of administering personnel matters. These files may contain some or all of the following information about an individual: Name; home and emergency addresses and telephone numbers; social security number; birth date; professional qualifications, training, awards, and other recognition; employment history; and information about congressional employee relief bills, conduct, and work assignments. Employee related records may also include military service data on employees of the National Personnel Records Center and their relatives accumulated by operating officials in administering the records security program at the Center. Employee related files do not include official personnel files, which are covered by Office of Personnel Management systems of records OPM/GOVT-1 through 10.

AUTHORITY FOR MAINTENANCE OF THE SYSTEM:

5 U.S.C. and 31 U.S.C.

ROUTINE USES OF RECORDS MAINTAINED IN THE SYSTEM, INCLUDING CATEGORIES OF USERS AND THE PURPOSES OF SUCH USES:

NARA maintains employee related files on individuals in order to document travel and outside employment activities of NARA employees, and to carry out personnel management responsibilities in general. The routine use statements A, B, C, D, F, G and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in employee related files may be retrieved primarily by the name of the individual.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Employee related files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

System managers for employee files are the Office heads and staff directors of individual offices and staffs in the Washington, DC area and the directors of the Presidential Libraries and Projects, and Regional Records Services Facilities. The addresses for these locations are listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in employee related files may be obtained from NARA employees and supervisors, and other personnel and administrative records.

NARA 24

SYSTEM NAME:

Personnel Security Files.

SECURITY CLASSIFICATION:

Some of the material contained in this system of records has been classified in the interests of national security pursuant to Executive Orders 12958, as amended and 13142.

SYSTEM LOCATION:

Personnel security records are located in the Space and Security Management Division at the National Archives at College Park, MD.

CATEGORIES OF INDIVIDUALS COVERED BY THE SYSTEM:

Individuals covered by the system include: Current and former NARA employees; applicants for employment with NARA; contract employees performing services under NARA jurisdiction; and private and Federal agency researchers, experts, and consultants who request access to security-classified records.

CATEGORIES OF RECORDS IN THE SYSTEM:

Personnel security files may include questionnaires, correspondence, summaries of reports, and electronic logs of individuals' security clearance status. These records may contain the following information about an individual: Name, current address, telephone number, birth date, birthplace, social security number, educational background, employment and residential history, background investigative material, and security clearance data.

AUTHORITY FOR MAINTENANCE OF THE SYSTEM:

Executive Order 10450; Executive Order 12958, as amended; Executive Order 12968; Executive Order 13142; and 5 U.S.C. 301.

ROUTINE USES OF RECORDS MAINTAINED IN THE SYSTEM, INCLUDING CATEGORIES OF USERS AND THE PURPOSES OF SUCH USES:

NARA maintains personnel security records on individuals as a basis for determining suitability for Federal or contractual employment and for issuing and recertifying security clearances. Routine use statements C and H, described in Appendix A following the NARA Notices, apply to this system of records.

POLICIES AND PRACTICES FOR STORING, RETRIEVING, ACCESSING, RETAINING, AND DISPOSING OF RECORDS IN THE SYSTEM:

STORAGE:

Paper, microfiche, and electronic records.

RETRIEVABILITY:

Information in the records may be retrieved by the name of the individual or by social security number.

SAFEGUARDS:

During business hours, paper and microfiche records are maintained in locked rooms and/or in three-way combination dial safes with access limited to authorized employees. Electronic records are accessible via passwords from workstations located in secured offices. Information is released only to officials on a need-to-know basis. After hours, buildings have security guards and/or doors are secured, and all entrances are monitored by electronic surveillance equipment.

RETENTION AND DISPOSAL:

Personnel security files are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager is the Assistant Archivist for Administration (NA). The address for this location is listed in Appendix B following the NARA notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in personnel security files may be obtained from: NARA employees; applicants for employment; contractor employees; private and Federal agency researchers, experts, and consultants; law enforcement agencies; other government agencies; intelligence sources; informants; educational institutions; and individuals' employers, references, co-workers, and neighbors.

SYSTEMS EXEMPTED FROM CERTAIN PROVISIONS OF THE ACT:

In accordance with 5 U.S.C. 552a(k)(1), (k)(2), and (k)(5), the personnel security case files in this system of records are exempt from subsections (c)(3); (d); (e)(1); (e)(4)(G), (H), and (I); and (f) of the Privacy Act of 1974, as amended. The system is exempt:

a. To the extent that the system consists of investigatory material compiled for law enforcement purposes; however, if any individual is denied any right, privilege, or benefit to which the individual would otherwise be eligible as a result of the maintenance of such material, such material shall be provided to such individual, except to the extent that the disclosure of such material would reveal the identity of a person who furnished information to the Government under an express promise that the identity of the person would be held in confidence, or, prior to the effective date of the Act, under an implied promise that the identity of the person would be held in confidence; and

b. To the extent that the system consists of investigatory material compiled solely for the purpose of determining suitability, eligibility, or qualifications for Federal civilian employment, military service, Federal contracts, or access to classified material, but only to the extent that the disclosure of such material would reveal the identity of a person who furnished information to the Government under an express promise that the identity of the person would be held in confidence, or, prior to the effective date of the Act, under an implied promise that the identity of the person would be held in confidence. This system has been exempted to maintain the efficacy and integrity of lawful investigations conducted pursuant to the responsibilities of the National Archives and Records Administration in the areas of Federal employment, Government contracts, and access to security-classified information.

NARA 25

SYSTEM NAME:

Order Fulfillment and Accounting System Records.

SYSTEM LOCATION:

Order Fulfillment and Accounting System (OFAS) records are maintained in organizational units in the following Washington, DC area locations:

(1) Office of Records Services—Washington, DC;

(2) Office of Presidential Libraries;

(3) Office of the Federal Register;

(4) Office of Regional Records Services; and

(5) National Archives Trust Fund Branch.

CATEGORIES OF INDIVIDUALS COVERED BY THE SYSTEM:

Individuals covered by this system include: Researchers who order reproductions at Washington, DC area and regional records facilities or online via the archives.gov website; and customers who order NARA inventory items, such as microform and printed publications, mementos, and other specialty products from catalogues and other marketing publications.

CATEGORIES OF RECORDS IN THE SYSTEM:

OFAS records may include: Ordering forms; correspondence; copies of checks, money orders, credit card citations, and other remittances; invoices; and order and accounting information in the electronic system. These records may contain some or all of the following information about an individual: Name, address, telephone number, record(s) or item(s) ordered, and credit card or purchase order information. OFAS records also include user profile data, reproduction order form data, transaction data, and credit card payment data transmitted from NARA Online Ordering System, NARA 37, via an automated XML (Extensible Markup Language) interface that operates within NARA's secure internal network.

AUTHORITY FOR MAINTENANCE OF THE SYSTEM:

44 U.S.C. 2116(c) and 2307.

ROUTINE USES OF RECORDS MAINTAINED IN THE SYSTEM, INCLUDING CATEGORIES OF USERS AND THE PURPOSES OF SUCH USES:

NARA maintains OFAS records on individuals to: Receive, maintain control of, and process orders for reproductions of archival records and other fee items; bill customers for orders; maintain payment records for orders; process refunds; and provide individuals information on other NARA products. Customer order information may be initially disclosed to a NARA agent, a bank that collects and deposits payments in a lockbox specifically used for crediting order payments to the National Archives Trust Fund. NARA may disclose certain order information to contractors, acting as NARA agents that make reproductions of archival records. NARA also may disclose information in OFAS records for the processing of customer refunds to the Bureau of Public Debt (BPD), which provides NARA's financial and accounting system under a cross-servicing agreement. The routine use statements A, E, F, and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in OFAS records may be retrieved by the name of the individual and/or the OFAS transaction number. Information in electronic records may also be retrieved by the invoice number or zip code.

SAFEGUARDS:

During business hours, paper records are maintained in areas accessible only to authorized NARA personnel. Electronic records are accessible via passwords from workstations located in attended offices. Credit card information is compartmentalized so that it is available only to those NARA employees responsible for posting and billing credit card transactions. After hours, buildings have security guards and/or doors are secured and all entrances are monitored by electronic surveillance equipment.

RETENTION AND DISPOSAL:

OFAS records are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

The system manager for OFAS records is the Assistant Archivist for Administration (NA). The address for this location is listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in OFAS records is obtained from customers, NARA employees or agents who are involved in the order process, and BPD employees who process refunds.

NARA 26

SYSTEM NAME:

Volunteer Files.

SYSTEM LOCATION:

Volunteer files may be maintained at supervisory or administrative offices at all NARA facilities that use volunteer workers.

CATEGORIES OF INDIVIDUALS COVERED BY THE SYSTEM:

Individuals covered by this system include persons who have applied to be NARA volunteers.

CATEGORIES OF RECORDS IN THE SYSTEM:

Volunteer files consist of a variety of records maintained by operating officials to administer personnel matters affecting volunteers. Records may include: Applications for volunteer service and for building passes, registration forms, other administrative forms, correspondence, resumes, letters of recommendation, college transcripts and forms, performance assessments, and copies of timesheets. Volunteer files may include some or all of the following information about an individual: Name; home and emergency addresses and telephone numbers; social security number; birth date; professional qualifications, training, awards, and other recognition; employment history; and information about injuries, conduct, attendance, years of service, and work assignments. This system of records does not include official personnel files, which are covered by Office of Personnel Management systems of records OPM/GOVT-1 through 10.

AUTHORITY FOR MAINTENANCE OF THE SYSTEM:

44 U.S.C. 2105(d) and generally 5 and 31 U.S.C.

ROUTINE USES OF RECORDS MAINTAINED IN THE SYSTEM, INCLUDING CATEGORIES OF USERS AND THE PURPOSES OF SUCH USES:

NARA maintains volunteer files on individuals to: Evaluate individuals who apply to serve as volunteers, docents, interns, and work study students at NARA facilities; assign work and monitor performance; and carry out personnel management responsibilities in general affecting those volunteers. NARA may disclose attendance and performance information on interns and work study students to colleges and universities that oversee those individuals in student internships and work study programs. The routine use statements A, B, C, D, F, G and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in volunteer files may be retrieved primarily by the name of the individual.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Volunteer files are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

For volunteer files located in Staff Development Services Branch, the system manager is the Assistant Archivist for Administration (NA). For volunteer files located in organizational units in the Office of Records Services—Washington, DC the system manager is the Assistant Archivist for Records Services—Washington, DC (NW). For volunteer files located in individual Presidential Libraries, Projects, and Staffs and Regional Records Services Facilities, the system manager is the director of the Presidential Library, Project, or Staff or Regional Records Services Facilities. The addresses for these locations are listed in Appendix B following the NARA Notices.

NOTIFICATION PROCEDURE:

Individuals interested in inquiring about their records should notify the NARA Privacy Act Officer at the address listed in Appendix B following the NARA notices.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in volunteer files is obtained from the volunteers themselves, NARA supervisors, persons listed as references in applications submitted by volunteers, and educational institutions.

NARA 27

SYSTEM NAME:

Contracting Officer and Contracting Officer's Technical Representative (COTR) Designation Files.

SYSTEM LOCATION:

Contracting officer and contracting officer's technical representative (COTR) designation files are maintained in the Acquisitions Services Division and the Financial Services Division in the Washington, DC area.

CATEGORIES OF INDIVIDUALS COVERED BY THE SYSTEM:

Individuals covered by this system include current and former NARA employees who have been appointed as NARA contracting officers, Government credit cardholders, and COTRs in accordance with Federal Acquisition Regulations (FAR) and internal procurement procedures.

CATEGORIES OF RECORDS IN THE SYSTEM:

Contracting officer and COTR designation files may include: Standard Forms 1402, Certificate of Appointment; correspondence, copies of training course certificates; copies of training forms; and lists. These files may contain some or all of the following information about an individual: Name, address, NARA correspondence symbol, telephone number, social security number, birth date, position title, grade, procurement authorities, and information about procurement training and Government credit cards issued.

AUTHORITY FOR MAINTENANCE OF THE SYSTEM:

44 U.S.C. 2104 and 48 CFR 1.603 generally.

ROUTINE USES OF RECORDS MAINTAINED IN THE SYSTEM, INCLUDING CATEGORIES OF USERS AND THE PURPOSES OF SUCH USES:

NARA maintains contracting officer and COTR designation files in order to administer procurement certification and training programs for NARA contracting officers, credit cardholders, and COTRs in accordance with the FAR and internal procurement procedures. The routine use statements A, F, and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in contracting officer and COTR designation files may be retrieved by the name of the individual or by NARA correspondence symbol.

SAFEGUARDS:

During business hours, records are maintained in areas accessible only to authorized NARA personnel. Electronic records are accessible via passwords from workstations located in attended offices. After business hours, buildings have security guards and/or secured doors, and all entrances are monitored by electronic surveillance equipment.

RETENTION AND DISPOSAL:

Contracting officer and COTR designation files are temporary records and are destroyed in accordance with the disposition instructions in the NARA Records Schedule (a supplement to, the NARA Files Maintenance and Records Disposition Manual). Electronic files are periodically updated and purged of outdated information. Individuals may request a copy of the disposition instructions from the NARA Privacy Act Officer.

SYSTEM MANAGER(S) AND ADDRESS:

The system manager for contracting officer and COTR designation files is the Assistant Archivist for Administration (NA). The address for this location is listed in Appendix B following the NARA Notices.

NOTIFICATION PROCEDURE:

Individuals interested in inquiring about their records should notify the NARA Privacy Act Officer at the address listed in Appendix B following the NARA notices.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in contracting officer and COTR designation files may be obtained from the individuals on whom records are maintained, NARA supervisors, and organizations that provide procurement training or issue Government credit cards.

NARA 28

SYSTEM NAME:

Tort and employee claim files.

SYSTEM LOCATION:

Records are located in the Office of General Counsel (NGC).

CATEGORIES OF INDIVIDUALS COVERED BY THE SYSTEM:

Individuals covered by this system include: Current and former NARA employees, other Federal agency employees, and individual members of the public who have filed a tort claim or an employee claim against NARA.

CATEGORIES OF RECORDS IN THE SYSTEM:

Records in the system may contain some or all of the following information about an individual: Name, social security number, position description, grade, salary, work history, complaint, credit ratings, medical diagnoses and prognoses, and doctor's bills. The system may also contain other records such as: Case history files, copies of applicable law(s), working papers of attorneys, testimony of witnesses, background investigation materials, correspondence, damage reports, contracts, accident reports, pleadings, affidavits, estimates of repair costs, invoices, financial data, and other data.

AUTHORITY FOR MAINTENANCE OF THE SYSTEM:

5 U.S.C. 552; 5 U.S.C. 552a; 5 U.S.C., Part II; 28 U.S.C. 1291, 1346(b)(c), 1402(b), 1504, 2110, 2401(b), 2402, 2411(b), 2412(c), 2671-2680.

ROUTINE USES OF RECORDS MAINTAINED IN THE SYSTEM, INCLUDING CATEGORIES OF USERS AND THE PURPOSES OF SUCH USES:

Records are used to make determinations on tort and employee claims and for internal statistical reports. Information may be disclosed to: the General Services Administration to process payments for approved claims; and the Department of Justice in review, settlement, defense, and prosecution of claims, and law suits arising from those claims. The routine use statements A, B, C, E, F, and G, described in Appendix A following the NARA notices, also apply to this system of records.

POLICIES AND PRACTICES FOR STORING, RETRIEVING, ACCESSING, RETAINING, AND DISPOSING OR RECORDS IN THE SYSTEM:

STORAGE:

Paper and electronic records.

RETRIEVABILITY:

Information may be retrieved by the name of the individual.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Tort and employee claim files are temporary records and are destroyed in accordance with disposition instructions in the NARA Records Schedule (a supplement to, the NARA Files Maintenance and Records Disposition Manual). Individuals may request a copy of the disposition instructions from the NARA Privacy Act Officer.

SYSTEM MANAGER(S) AND ADDRESS:

The system manager is the General Counsel, Office of General Counsel (NGC). The address for this location is listed in Appendix B following the NARA Notices.

NOTIFICATION PROCEDURE:

Individuals interested in inquiring about their records should notify the NARA Privacy Act Officer at the address listed in Appendix B following the NARA Notices.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in this system of records comes from one or more of the following sources: Federal employees and private parties involved in torts and employee claims, witnesses, and doctors and other health professionals.

NARA 29 [DELETED]

NARA 30

SYSTEM NAME:

Garnishment files.

SYSTEM LOCATION:

Records are located in the Office of General Counsel (NGC).

CATEGORIES OF INDIVIDUALS COVERED BY THE SYSTEM:

Individuals covered by this system include current and former NARA employees against whom a garnishment order has been filed.

CATEGORIES OF RECORDS IN THE SYSTEM:

Records in the system may contain some or all of the following information about an individual: Name, social security number, address, position title and NARA unit, salary, debts, and creditors.

AUTHORITY FOR MAINTENANCE OF THE SYSTEM:

5 U.S.C. Part II; 42 U.S.C. 659; 11 U.S.C. 1325; 5 U.S.C. 15512 to 5514, 5517, 5520.

ROUTINE USES OF RECORDS MAINTAINED IN THE SYSTEM, INCLUDING CATEGORIES OF USERS AND THE PURPOSES OF SUCH USES:

Records are used to process garnishment orders. Information is disclosed to the General Services Administration, acting as NARA's payroll agent, to process withholdings for garnishments. The routine use statements E, F, and H, described in Appendix A following the NARA notices, also apply to this system of records.

POLICIES AND PRACTICES FOR STORING, RETRIEVING, ACCESSING, RETAINING, AND DISPOSING OF RECORDS IN THE SYSTEM:

STORAGE:

Paper and electronic records.

RETRIEVABILITY:

Information may be retrieved by the name of the individual.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Garnishment files are temporary records and are destroyed in accordance with disposition instructions in the NARA Records Schedule (a supplement to, the NARA Files Maintenance and Records Disposition Manual). Individuals may request a copy of the disposition instructions from the NARA Privacy Act Officer.

SYSTEM MANAGER(S) AND ADDRESS:

The system manager is the General Counsel, Office of General Counsel (NGC). The address for this location is listed in Appendix B following the NARA notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in this system of records comes from courts that have issued a garnishment order and NARA personnel records.

NARA 31

SYSTEM NAME:

Ride Share Locator Database.

SYSTEM LOCATION:

The ride share locator database is maintained at the Facilities and Personal Property Management Division (NAF).

CATEGORIES OF INDIVIDUALS COVERED BY THE SYSTEM:

Individuals covered by this system include NARA employees whose duty station is or may become College Park, MD and who have expressed an interest in the NARA Ride Share Program.

CATEGORIES OF RECORDS IN THE SYSTEM:

The ride share locator database contains the following information about an individual: Name; city, county and State and zip code of residence; NARA unit; and NARA work phone number.

AUTHORITY FOR MAINTENANCE OF THE SYSTEM:

44 U.S.C. 2104.

ROUTINE USES OF RECORDS MAINTAINED IN THE SYSTEM, INCLUDING CATEGORIES OF USERS AND THE PURPOSES OF SUCH USES:

NARA maintains the ride share locator database to provide employees with the names of and residential information of other employees who have expressed an interest in sharing rides for daily commuting to the National Archives at College Park, MD. The routine use statements F and H, described in Appendix A following the NARA Notices, also apply to this system.

POLICIES AND PRACTICES FOR STORING, RETRIEVING, ACCESSING, RETAINING, AND DISPOSING OF RECORDS IN THE SYSTEM:

STORAGE:

Electronic records from which paper records may be printed.

RETRIEVABILITY:

Information in the ride share locator database may be retrieved by the name of the individual, city, State, and/or zip code.

SAFEGUARDS:

During business hours, paper records are maintained in area accessible to authorized NARA personnel. Electronic records are accessible via passwords from workstations located in attended offices. After business hours, buildings have security guards and/or secured doors, and all entrances are monitored by electronic surveillance equipment.

RETENTION AND DISPOSAL:

Records in the ride share locator database are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

The system manager for the ride share locator database is the Assistant Archivist for Administration (NA). The address for this location is listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in the ride share locator database is obtained from individuals who have furnished information to the NARA Ride Share Program.

NARA 32

SYSTEM NAME:

Alternate Dispute Resolution Files.

SYSTEM LOCATION:

Alternate Dispute Resolution (ADR) files are maintained by the Office of General Counsel (NGC).

CATEGORIES OF INDIVIDUALS COVERED BY THE SYSTEM:

Individuals covered by this system include NARA staff and former staff, who participate in the ADR process, the agency's Dispute Resolution Specialist and Deputy Dispute Resolution Specialist, the agency's RESOLVE Contact, members of the ADR panel (representatives from Equal Opportunity and Diversity Programs (NEEO), the Human Resources Services Division (NHH), and the local American Federation of Government Employees (AFGE) union and contractor personnel used as mediators in the ADR process.

CATEGORIES OF RECORDS IN THE SYSTEM:

ADR files may include: Written and electronic (sometimes sensitive) communication between the employee or former employee, participant representative(s), Dispute Resolution Specialist and Deputy Dispute Resolution Specialist, the agency's RESOLVE Contact, members of the ADR Panel, and the contractor mediator; procurement data; invoices for services; and ADR case files. The system maintains may contain the following information about an individual: Name, home and office addresses, telephone number, social security number, dollar value of services rendered by the contractor, previous employment disputes, and education and employment experience of the contractor.

AUTHORITY FOR MAINTENANCE OF THE SYSTEM:

Public Laws 101-552 and 104-320, as amended.

ROUTINE USES OF RECORDS MAINTAINED IN THE SYSTEM, INCLUDING CATEGORIES OF USERS AND THE PURPOSES OF SUCH USES:

NARA maintains ADR files in order to facilitate the Alternative Dispute Resolution program at the agency. These records may be used by an employee or former employee in the course of resolving a dispute, by members of the Dispute Resolution staff facilitating dispute resolution and payment of contractors, and by the contract mediators performing services and invoicing for an ADR case. The Routine Use statements A, F, and H, described in Appendix A following the NARA notices, also apply to this system of records.

POLICIES AND PRACTICES FOR STORING, RETRIEVING, ACCESSING, RETAINING, AND DISPOSING OF RECORDS IN THE SYSTEM:

STORAGE:

Paper and electronic records.

RETRIEVABILITY:

Information in the records may be retrieved by: The name of the individual; the location of the work site; a numeric case file number; and/or the type of request.

SAFEGUARDS:

During normal hours of operation, paper records are maintained in areas only accessible to authorized personnel of NARA. Electronic records are accessible via passwords from workstations located in attended offices. After hours, buildings have security guards and/or doors are secured and all entrances are monitored by electronic surveillance equipment.

RETENTION AND DISPOSAL:

Agency Alternate Dispute Resolution files are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

The system manager for agency ethics ADR program files is the General Counsel, Office of General Counsel (NGC). The address for this organization is listed in Appendix B following the NARA notices.

NOTIFICATION PROCEDURE:

Individuals interested in inquiring about their records should notify the: NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in the agency Alternate Dispute Resolution program files is obtained from NARA staff and former staff, participant representative(s), the Dispute Resolution Staff, the ADR panel, and the contract mediators.

NARA 33

SYSTEM NAME:

Development and Donor Files.

SYSTEM LOCATION:

The agency's Development and Donor files are maintained by the Center for the National Archives Experience (NWE) within the Office of Records Services—Washington, DC (NW) and the National Archives Trust Fund Division.

CATEGORIES OF INDIVIDUALS COVERED BY THE SYSTEM:

Individuals covered by this system include persons who donate money or other gifts to NARA, the Foundation for the National Archives, and prospective donors and other persons contacted by the Development Staff, the Archivist of the United States, and other NARA officials.

CATEGORIES OF RECORDS IN THE SYSTEM:

Development and Donor Files may include biographical and demographic information for individuals and organizations; background information, interests, affiliations, and giving history for donors, including their relationship and participation with the organization and its stakeholders; prospect management data such as interests, affiliations, cultivation and solicitation of gifts, strategy reports, and talking points; information on gifts and pledges made and miscellaneous information about each gift; record of acknowledgment packages and solicitation letters, including membership cards, receipts, reminders, renewal notices, program notices, and invitations and attendance at special events.

AUTHORITY FOR MAINTENANCE OF THE SYSTEM:

44 U.S.C. 2112(g)(1); 2305.

ROUTINE USES OF RECORDS MAINTAINED IN THE SYSTEM, INCLUDING CATEGORIES OF USERS AND THE PURPOSES OF SUCH USES:

NARA maintains Development and Donor Files in order to facilitate the gift solicitation and receipt authority of the Archivist of the United States on behalf of the National Archives and Records Administration. The information in these files may be shared, but not for redistribution, with the member (must be personal to the member, not shared among members) and staff, Foundation Board Directors, and contractors of the Foundation for the National Archives, which is a non-governmental, 501(c)(3) organization that support the programs and activities of NARA by soliciting, receiving, expending, and otherwise utilizing monetary donations and other gifts on behalf of NARA programs. The Routine Use statements A, E, F, G, and H described in Appendix A following the NARA notices, also apply to this system of records.

POLICIES AND PRACTICES FOR STORING, RETRIEVING, ACCESSING, RETAINING, AND DISPOSING OF RECORDS IN THE SYSTEM:

STORAGE:

Paper and electronic records.

RETRIEVABILITY:

Information in the records may be retrieved by the name of the individual or the organization, interest, project, or gift level with which the individual is associated.

SAFEGUARDS:

During normal hours of operation, paper records are maintained in areas accessible only to authorized personnel of NARA. Electronic records are accessible via passwords from workstations located in attended offices. After hours, buildings have security guards and/or doors are secured and all entrances are monitored by electronic surveillance equipment.

RETENTION AND DISPOSAL:

Development and Donor files are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

For Development and Donor files relating to the activities of the Foundation for the National Archives, the system manager is the Director of the Center for the National Archives Experience (NWE). For Development and Donor files relating to the activities of the National Archives Trust Fund Board, the system manager is the Director, National Archives Trust Fund Division. The addresses for these offices are listed in Appendix B following the NARA notices.

NOTIFICATION PROCEDURE:

Individuals interested in inquiring about their records should notify the NARA Privacy Act Officer at the address is listed in Appendix B following the NARA notices.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in the Development and Donor files is obtained from the Foundation for the National Archives and by the Center for the National Archives Experience in its daily business activities, including communications with and cultivation and solicitation of prospective donors and members and publicly available sources of NARA.

NARA 34

SYSTEM NAME:

Agency Ethics Program Files.

SYSTEM LOCATION:

The agency's ethics program files are maintained by the Office of General Counsel (NGC). The address for this organization is listed in Appendix B following the NARA Notices.

CATEGORIES OF INDIVIDUALS COVERED BY THE SYSTEM:

Individuals covered by this system include NARA employees and former employees who request ethics guidance form the agency's ethics staff.

CATEGORIES OF RECORDS IN THE SYSTEM:

Ethics program files may include employee memoranda and correspondence, notes taken by the ethics staff, memoranda summarizing advice listed orally, and electronic records. These files may contain the following information about an individual: name, address, and telephone number.

AUTHORITY FOR MAINTENANCE OF THE SYSTEM:

Executive Orders 12674 and 12731, 5 CFR Parts 2638 and 7601.

ROUTINE USES OF RECORDS MAINTAINED IN THE SYSTEM, INCLUDING CATEGORIES OF USERS AND THE PURPOSES OF SUCH USES:

NARA maintains ethics program files on employees to document advice and opinions listed in ethics matters and to maintain a historical record of ethics opinions that may be used in future ethics cases. Routine use statements A, E, G, and H, described in Appendix A following the NARA Notices, also apply to this system of records.

POLICIES AND PRACTICES FOR STORING, RETRIEVING, ACCESSING, RETAINING, AND DISPOSING OF RECORDS IN THE SYSTEM:

STORAGE:

Paper and electronic records.

RETRIEVABILITY:

Information in credentials and passes may be retrieved by the name of the individual or date.

SAFEGUARDS:

During business hours, paper records are maintained in areas accessible only to authorized NARA personnel. Electronic records are accessible via passwords from workstations located in attended offices. After business hours, buildings have security guards and/or secured doors, and all entrances are monitored by electronic surveillance equipment.

RETENTION AND DISPOSAL:

Agency ethics program files are temporary records and are destroyed in accordance with the disposition instructions in the NARA Records Schedule (a supplement to, the NARA Files Maintenance and Records Disposition Manual). Individuals may request a copy of the disposition instructions from the NARA Privacy Act Officer.

SYSTEM MANAGER(S) AND ADDRESS:

The system manager for ethic program files is the Office of General Counsel (NGC). The address for this organization is listed in Appendix B following the NARA notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in ethics program files is obtained from NARA employees, former employees and the agency's ethics staff.

NARA 35

SYSTEM NAME:

Case Management and Reporting System (CMRS)

SYSTEM LOCATION:

This automated system is located at the National Personnel Records Center (Military Personnel Records) in St. Louis, MO, and the National Archives and Records Administration in College Park, MD. The addresses for these locations are listed in Appendix B following the NARA Notices.

CATEGORIES OF INDIVIDUALS COVERED BY THE SYSTEM:

Individuals covered by this system include persons who request information from or access to inactive military personnel, medical, and organizational records in the physical custody of the National Personnel Records Center (Military Personnel Records). Subjects of these inactive records are also covered. In addition, this system covers current and former Federal civilian employees whose paper personnel record have been transferred to the National Personnel Records Center (Civilian Personnel Records) for scanning, transmission to OPM's electronic personnel (eOPF) system, and/or storage at NPRC-CPR.

CATEGORIES OF RECORDS IN THE SYSTEM:

CMRS files may include: correspondence, including administrative forms used for routine inquiries and replies, between NARA staff and requesters; stored copies of frequently requested documents from individual Official Military Personnel Files (OMPF's); production and response time data used for internal reporting purposes; and databases used to respond to requests. These files may contain some or all of the following information about an individual: Name, address, telephone number, position title, name of employer/institutional affiliation, identification of requested records, Social Security Number/Service Number, previous military assignments, and other information furnished by the requester. CMRS files may also include the name and social security number of the subject of the Federal civilian employee personnel file.

AUTHORITY FOR MAINTENANCE OF THE SYSTEM:

44 U.S.C. 2108, 2110, and 2907

ROUTINE USES OF RECORDS MAINTAINED IN THE SYSTEM, INCLUDING CATEGORIES OF USERS AND THE PURPOSES OF SUCH USES:

NARA maintains CMRS files to: Maintain control of records being requested for either internal or external use, establish employee and requester accountability for records, prepare replies to requester's reference questions, record the status of requesters' requests and NARA replies to those requests, and to facilitate the preparation of statistical and other aggregate reports on employee performance and requester satisfaction. The routine use statements A, C, D, E, F, G, and H, described in Appendix A following the NARA notices, also apply to this system of records.

POLICIES AND PRACTICES FOR STORING, RETRIEVING, ACCESSING, RETAINING, AND DISPOSING OF RECORDS IN THE SYSTEM:

STORAGE:

Electronic records.

RETRIEVABILITY:

Information in CMRS files may be retrieved by the name, Social Security or military service number of the veteran whose record was the subject of the request. By use of a querying capability, information may also be retrieved by use of a system-assigned request number, by name and date of birth of the veteran, and by requester-supplied information, such as name and address, phone number, or email address. Information in CMRS files related to a Federal civilian employee may be retrieved by the subject of the record's name or Social Security number.

SAFEGUARDS:

During business hours, electronic records are accessible to authorized NARA personnel via passwords from workstations located in attended offices. After business hours, buildings have security guards and/or secured doors, and all entrances are monitored by electronic surveillance equipment.

RETENTION AND DISPOSAL:

The disposition of the records in the CMRS system is under consideration. Accordingly, the records generated by the system cannot be destroyed until a Records Schedule is approved by the Archivist. Once the disposition is determined, retention and disposal of the records will be governed in accordance with the applicable disposition instructions in the NARA Records Schedule (a supplement to, the NARA Files Maintenance and Records Disposition Manual). Individuals may request a copy of the disposition instructions from the NARA Privacy Act Officer.

SYSTEM MANAGER(S) AND ADDRESS:

The system manager, CMRS, is the Director, National Personnel Records Center. The address for this location is listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in the CMRS file is obtained from requesters, NARA employees who maintain the file, from the military service department in which the subject of the record served, and from the Federal agency with which the subject of the record was/is employed.

NARA 36

SYSTEM NAME:

Public Transportation Benefit Program Files.

SYSTEM LOCATION:

The transportation benefit program files are maintained in the following locations in the Washington, DC, area and other geographical regions. The addresses for these locations are listed in Appendix B following the NARA Notices:

(1) The Facilities and Personal Property Management Division (NAF);

(2) Presidential libraries, projects, and staffs; and

(3) Regional records services facilities.

CATEGORIES OF INDIVIDUALS COVERED BY THE SYSTEM:

All NARA employees who have enrolled in the Public Transit Subsidy Program (PTSP) are covered by this system, including: full-time employees; part-time employees; intermittent employees; and temporary employees and students.

CATEGORIES OF RECORDS IN THE SYSTEM:

The public transportation benefit program files contain information on NARA employees that is used to document the distribution of transportation subsidies. These files contain information submitted on NA Form 6041, Application—Public Transit Subsidy Program, by both current and non-current participants and include: name; home address; Social Security number; NARA unit; and NARA work phone number. In addition, files may contain vouchers and other forms used to document the disbursement of subsidies.

AUTHORITY FOR MAINTENANCE OF THE SYSTEM:

44 U.S.C. 2104 and Executive Order 13150

ROUTINE USES OF RECORDS MAINTAINED IN THE SYSTEM, INCLUDING CATEGORIES OF USERS AND THE PURPOSES OF SUCH USES:

NARA maintains transportation benefit program files on individuals in order to: provide the Department of Transportation with the names, Social Security numbers, and addresses of NARA employees who have enrolled in the Public Transit Subsidy Program or are members of qualified vanpools; and to verify employee compliance with the rules of the program. The routine use statements A, F, and H, described in Appendix B following the NARA notices, also apply to this system.

POLICIES AND PRACTICES FOR STORING, RETRIEVING, ACCESSING, RETAINING, AND DISPOSING OF RECORDS IN THE SYSTEM:

STORAGE:

Paper forms (NA 6041, Application—Public Transit Subsidy Program; NA Form 6042—Authorization for Third Party Pickup—Public Transit Subsidy Program) and electronic records.

RETRIEVABILITY:

Information in the public transportation benefit program files may be retrieved by the name of the individual.

SAFEGUARDS:

During business hours, paper records are maintained in area accessible to authorized NARA personnel. Electronic records are accessible to authorized personnel via passwords from workstations located in attended offices. After business hours, buildings have security guards and/or secured doors, and all entrances are monitored by electronic surveillance equipment.

RETENTION AND DISPOSAL:

Records in the public transportation benefit program files are temporary records and are destroyed in accordance with the disposition instructions in the NARA Records Schedule (a supplement to, NARA Files Maintenance and Records Disposition Manual). Individuals may request a copy of the disposition instructions from the NARA Privacy Act Officer.

SYSTEM MANAGER(S) AND ADDRESS:

The system manager for the transportation benefit program files in the Washington, DC, area is the PTSP Manager in NAF. Local PTSP managers are designated for the Presidential libraries and regional records services facilities. The address for this location is listed in Appendix B following the NARA Notices.

NOTIFICATION PROCEDURE:

Individuals interested in inquiring about their records should notify the NARA Privacy Act Officer at the address listed in Appendix B following the NARA notices.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in the public transportation benefit program files is obtained from individuals who have furnished information to the NARA PTSP.

NARA 37

SYSTEM NAME:

NARA Online Ordering System

SYSTEM LOCATION:

The NARA Online Ordering System is located in the data center at the National Archives and Records Administration in College Park, MD.

CATEGORIES OF INDIVIDUALS COVERED BY THE SYSTEM:

Individuals covered by this system include researchers who order reproductions of NARA archival materials at http://www.archives.gov.

CATEGORIES OF RECORDS IN THE SYSTEM:

NARA Online Ordering System may include: user login data (i.e., user ID and password; user profile data (e.g., name, address, phone number); credit card payment data (e.g., card type, card number, expiration date); reproduction order form data (e.g., detailed information describing the requested archival record); transaction data (e.g., system-generated order identification information such as order number, order date, order type); correspondence from NARA (e.g., written responses to customer requests) and quotations to initiate an order; and, digital reproductions (e.g., digital facsimiles of WWI draft cards available via download).

AUTHORITY FOR MAINTENANCE OF THE SYSTEM:

44 U.S.C. 2116(c), 2307 and 3504.

ROUTINE USES OF RECORDS MAINTAINED IN THE SYSTEM, INCLUDING CATEGORIES OF USERS AND THE PURPOSES OF SUCH USES:

Records maintained in the system are used only for order entry, order validation, order processing, payment processing, and order fulfillment. The public may use the NARA Online Ordering System to complete and submit a reproduction order to NARA. Each night, submissions to the NARA Online Ordering System are sent to NARA's Order Fulfillment and Accounting System (OFAS—NARA 25) via an automated XML (extensible markup language) interface that operates within NARA's secure internal network. The NARA Online Ordering System maintains profile data (e.g., name, address, phone number) for researchers who initiate orders of reproductions. The profile data is used to automatically complete the payment and/or shipping address sections of the order form so that customers do not have to manually re-enter the information. Neither NARA nor its agents use customer profile data in the NARA Online Ordering System for other purposes. The routine use statements A, E, F, and H, described in Appendix A apply to this system of records.

POLICIES AND PRACTICES FOR STORING, RETRIEVING, ACCESSING, RETAINING, AND DISPOSING OF RECORDS IN THE SYSTEM:

STORAGE:

Electronic records.

RETRIEVABILITY:

Information in the NARA Online Ordering System may be retrieved by the NARA customer using his or her user ID and password. Also, summary order data (order number, master number [OFAS order number]), status (e.g., received, processing, shipped, cancelled) and submission date) may be retrieved by the customer or the NARA customer service agent using the order number.

SAFEGUARDS:

Access to the data center that houses the NARA Online Ordering System is restricted to approved systems administrators and, with the exception of a limited number of operations staff, is limited to normal business hours. Electronic records are accessible only on a “need to know basis” using controlled logins and passwords from workstations located in attended offices. Credit card information is compartmentalized so that it is available only to those NARA employees responsible for posting and billing credit card transactions. The National Archives at College Park has 24-hour security guards, controlled entrances, and electronic surveillance.

RETENTION AND DISPOSAL:

Order Online! records are temporary records and are destroyed in accordance with the disposition instructions in the NARA Records Schedule (a supplement to the NARA Files Maintenance and Records Disposition Manual). Individuals may request a copy of the disposition instructions from the NARA Privacy Act Officer.

SYSTEM MANAGER(S) AND ADDRESS:

The system manager for NARA Online Ordering System is: Assistant Archivist for Records Services—Washington, DC (NW). The address for this location is listed in Appendix B following the NARA notices.

NOTIFICATION PROCEDURE:

Individuals interested in inquiring about their records are to notify the NARA Privacy Act Officer at the address listed in Appendix B.

RECORD ACCESS PROCEDURES:

Individuals who wish to gain access to their records are to submit their request in writing to the NARA Privacy Act Officer at the address listed in Appendix B.

CONTESTING RECORD PROCEDURES:

NARA rules for contesting the contents and appealing initial determinations are found in 36 CFR part 1202.

RECORD SOURCE CATEGORIES:

Information in the NARA Online Ordering System is obtained from NARA customers, employees or agents who are involved in the order process, and Bureau of Public Debt (BPD) employees who process refunds.

NARA 38

SYSTEM NAME:

Project Management Records.

SYSTEM LOCATION:

This system is located at the National Archives and Records Administration (NARA) in College Park, MD.

CATEGORIES OF INDIVIDUALS COVERED BY THE SYSTEM:

Individuals covered by this system include NARA employees and NARA contractors who work on NARA projects.

CATEGORIES OF RECORDS IN THE SYSTEM:

Individual files may contain some or all of the following information about NARA employees and NARA contractors: name, job title, work organization, supervisor, project assignments, work experience, and work availability. Project files consist of a list of NARA approved projects and related information about these projects. These files will contain some or all of the following information: Work tasks, planned and actual start and finish dates, resource requirements, dependencies and deliverables. Work files consist of information reported by an individual that shows, by task: resource expenditures in hours and dollars, remaining effort to complete the task, date of completion, risk assessments, issues and documentation that shows work progress.

AUTHORITY FOR MAINTENANCE OF THE SYSTEM:

44 U.S.C. 2104, 31 U.S.C. 1115, and 40 U.S.C. 1423

ROUTINE USES OF RECORDS MAINTAINED IN THE SYSTEM, INCLUDING CATEGORIES OF USERS AND THE PURPOSES OF SUCH USES:

NARA maintains this information to effectively manage NARA's project portfolio. This includes defining projects and, within them, activities, tasks, milestones, and deliverables and assigning individuals to projects, measuring performance of on-going projects against established baselines, assessing the availability of resources to begin new projects and determining the capital costs of completed projects. Records will be disclosed for these uses both to authorized NARA staff and to contractors assisting NARA in these activities. These records may also be used to evaluate the performance of individuals, both NARA staff and contractors, against goals established by project managers and/or contract managers. Records from this system of records may be disclosed as a routine use to an agency or official of the U.S. Government exercising oversight over an activity covered by the system, or over the methods or manner in which NARA manages these activities, the resources committed to them, and their results. Such disclosures are limited to the extent necessary for them to exercise their oversight authority. Oversight agencies include, but are not limited to, the NARA Inspector General, GAO or other entities evaluating, auditing, or reviewing NARA's project management, capital investments, and earned value management. They may include officials of other agencies who are partners of NARA in one or more of the projects covered by the system. The routine use statements A, C, D, E, F, G, and H described in Appendix A also apply to this system of records.

POLICIES AND PRACTICES FOR STORING, RETRIEVING, ACCESSING, RETAINING, AND DISPOSING OF RECORDS IN THE SYSTEM:

STORAGE:

Electronic and paper.

RETRIEVABILITY:

Information in employee related files will be retrieved by the name of the individual.

SAFEGUARDS:

Electronic records are accessible to authorized personnel via password from workstations owned by NARA and maintained in NARA attended offices. After business hours, buildings have security guards and/or secured doors, and all entrances are monitored by electronic surveillance equipment.

RETENTION AND DISPOSAL:

The disposition of the project management records is under consideration. Accordingly, the records generated cannot be destroyed until a Records Schedule is approved by the Archivist. Once the disposition is determined, retention and disposal of the records will be governed in accordance with the applicable disposition instructions in the NARA Records Schedule (a supplement to, the NARA Files Maintenance and Records Disposition Manual). Individuals may request a copy of the disposition instructions from the NARA Privacy Act Officer.

SYSTEM MANAGER(S) AND ADDRESS:

The system manager for project management records is the Assistant Archivist for Information Services (NH). The address for this location is listed in Appendix B following the NARA notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information about individuals in the records is obtained primarily from NARA employees and NARA contractors who work on NARA projects. Additional information may be obtained from NARA supervisors, other personnel, NARA operational records and information provided by contractors who provide staff to work on NARA projects.

NARA 39

SYSTEM NAME:

Visitor Ticketing Application (VISTA) Files.

SYSTEM LOCATION:

Visitor Ticketing Application Files are maintained at the Presidential Libraries across the country.

CATEGORIES OF INDIVIDUALS COVERED BY THE SYSTEM:

Individuals covered by this system include persons who serve as points of contact for groups visiting the Presidential Libraries and invited guests to special events at the libraries.

CATEGORIES OF RECORDS IN THE SYSTEM:

Visitor Ticketing Application Files may include the following information on an individual: mailing address, telephone number, e-mail address, and credit card information.

AUTHORITY FOR MAINTENANCE OF THE SYSTEM:

44 U.S.C. 2108, 2111 note, and 2203(f)(1).

ROUTINE USES OF RECORDS MAINTAINED IN THE SYSTEM, INCLUDING CATEGORIES OF USERS AND THE PURPOSES OF SUCH USES:

NARA maintains the Visitor Ticketing Application Files on individuals to: store information on groups that interact with the library; conduct outreach with the points of contact with these groups, in order to maintain visitor levels and improve service; to study visitor data over time; and to store information on those attending special events. The routine use statements A, C, E, F, G, and H, described in Appendix A following the NARA Notices, also apply to this system of records.

POLICIES AND PRACTICES FOR STORING, RETRIEVING, ACCESSING, RETAINING, AND DISPOSING OF RECORDS IN THE SYSTEM:

STORAGE:

Electronic records.

RETRIEVABILITY:

Information in the records may be retrieved by the name of the individual.

SAFEGUARDS:

Electronic records are accessible via passwords from workstations located in attended offices. VISTA Files are maintained on servers unique to each Presidential library.

RETENTION AND DISPOSAL:

Visitor Ticketing Application Files are unscheduled records and, therefore, are retained until the Archivist of the United States approves dispositions. NARA is in the process of scheduling the Visitor Ticketing Application Files.

SYSTEM MANAGER(S) AND ADDRESS:

The system managers for the Visitor Ticketing Application Files are the Directors of the individual Presidential Libraries (NL). The addresses for these locations are listed in Appendix B following the NARA Notices.

NOTIFICATION PROCEDURE:

Individuals interested in inquiring about their records should notify the NARA Privacy Act Officer at the address listed in Appendix B.

RECORD ACCESS PROCEDURES:

Individuals who wish to gain access to their records should submit their request in writing to the NARA Privacy Act Officer at the address listed in Appendix B.

CONTESTING RECORD PROCEDURES:

NARA rules for contesting the contents and appealing initial determinations are found in 36 CFR part 1202.

RECORD SOURCE CATEGORIES:

Information in the Visitor Ticketing Application Files is obtained from researchers and from NARA employees who maintain the files.

Appendix A—Routine Uses

The following routine use statements will apply to National Archives and Records Administration notices where indicated:

A. Routine Use-Law Enforcement: In the event that a system of records maintained by this agency to carry out its functions indicates a violation or potential violation of law, whether civil, criminal or regulatory in nature, and whether arising by general statute or particular program statute, or by regulation, rule or order issued pursuant thereto, the relevant records in the system of records, may be referred, as a routine use, to the appropriate agency, whether Federal, State, local, or foreign, charged with the responsibility of investigating or prosecuting such violation or charged with enforcing or implementing the statute, or rule, regulation or order issued pursuant thereto.

B. Routine Use-Disclosure When Requesting Information: A record from this system of records may be disclosed as a routine use to a Federal, State, or local agency maintaining civil, criminal or other relevant enforcement information or other pertinent information, such as current licenses, if necessary, to obtain information relevant to an agency decision concerning the hiring or retention of an employee, the issuance of a security clearance, the letting of a contract, or the issuance of a license, grant, or other benefit.

C. Routine Use-Disclosure of Requested Information: A record from this system of records may be disclosed to a Federal agency, in response to its request, in connection with the hiring or retention of an employee, the issuance of a security clearance, conducting a security or suitability investigation, classifying a job, the reporting of an investigation of an employee, the letting of a contract, or the issuance of a license, grant, or other benefit by the requesting agency, to the extent that the information is relevant and necessary to the requesting agency's decision on the matter.

D. Routine Use-Grievance, Complaint, Appeal: A record from this system of records may be disclosed to an authorized appeal or grievance examiner, formal complaints examiner, equal employment opportunity investigator, arbitrator, or other duly authorized official engaged in investigation or settlement of a grievance, complaint, or appeal filed by an employee. A record from this system of records may be disclosed to the United States Office of Personnel Management, the Merit Systems Protection Board, Federal Labor Relations Authority, or the Equal Employment Opportunity Commission when requested in the performance of their authorized duties. To the extent that official personnel records in the custody of NARA are covered within the system of records published by the Office of Personnel Management as Government wide records, those records will be considered as a part of that Government wide system. Other records covered by notices published by NARA and considered to be separate systems of records may be transferred to the Office of Personnel Management in accordance with official personnel programs and activities as a routine use.

E. Routine Use-Congressional Inquiries: A record from this system of records may be disclosed as a routine use to a Member of Congress or to a Congressional staff member in response to an inquiry of the Congressional office made at the request of the individual about whom the record is maintained.

F. Routine Use-NARA Agents: A record from this system of records may be disclosed as a routine use to an expert, consultant, agent, or a contractor of NARA to the extent necessary for them to assist NARA in the performance of its duties. Agents include, but are not limited to, GSA or other entities supporting NARA's payroll, finance, and personnel responsibilities.

G. Routine Use-Department of Justice/Courts: A record from this system of records may be disclosed to the Department of Justice or in a proceeding before a court or adjudicative body before which NARA is authorized to appear, when: (a) NARA, or any component thereof; or, (b) any employee of NARA in his or her official capacity; or, (c) any employee of NARA in his or her individual capacity where the Department of Justice or NARA has agreed to represent the employee; or (d) the United States, where NARA determines that litigation is likely to affect the agency or any of its components, is a party to litigation or has an interest in such litigation, and the use of such records by the Department of Justice or by NARA before a court or adjudicative body is deemed by NARA to be relevant and necessary to the litigation, provided, however, that in each case, NARA determines that disclosure of the records is a use of the information contained in the records that is compatible with the purpose for which the records were collected.

H. Routine Use—Data breach: A record from this system of records may be disclosed to appropriate agencies, entities, and persons when (1) it is suspected or confirmed that the security or confidentiality of information in the system of records has been compromised; (2) NARA has determined that as a result of the suspected or confirmed compromise there is a risk of harm to economic or property interests, identity theft or fraud, or harm to the security or integrity of this system or other systems or programs (whether maintained by NARA of another agency or entity) that rely upon the compromised information; and (3) the disclosure is made to such agencies, entities, and persons who are reasonably necessary to assist in connection with NARA's efforts to respond to the suspected or confirmed compromise and prevent, minimize, or remedy such harm.

APPENDIX B

To inquire about your records or to gain access to your records, you should submit your request in writing to: NARA Privacy Act Officer, General Counsel (NGC), National Archives and Records Administration, 8601 Adelphi Road, Room, College Park, MD 20740-6001.

If the system manager is the Assistant Archivist for Record Services—Washington, DC (NW), the records are located at the following address: Office of Record Services—Washington, DC (NW), National Archives and Records Administration, 8601 Adelphi Road, Room 3400, College Park, MD 20740-6001.

If the system manager is the Assistant Archivist for Presidential Libraries (NL), the records are located at the following address: Office Presidential Libraries (NL), National Archives and Records Administration, 8601 Adelphi Road, Room 2200, College Park, MD 20740-6001.

If the system manager is the director of a Presidential library, the records are located at the appropriate Presidential library, staff or project:

George Bush Library, 1000 George Bush Drive West, College Station, TX 77845.

Jimmy Carter Library, 441 Freedom Parkway, Atlanta, GA 30307-1498.

William J. Clinton Library, 1200 President Clinton Avenue, Little Rock, AR 72201.

Dwight D. Eisenhower Library, 200 SE 4th Street, Abilene, KS 67410-2900.

Gerald R. Ford Library, 1000 Beal Avenue, Ann Arbor, MI 48109-2114.

Herbert Hoover Library, 210 Parkside Drive, P.O. Box 488, West Branch, IA 52358-0488.

Lyndon B. Johnson Library, 2313 Red River Street, Austin, TX 78705-5702.

John F. Kennedy Library, Columbia Point, Boston, MA 02125-3398.

Richard Nixon Library, 1800 Yorba Linda Boulevard, Yorba Linda, CA 92886.

Richard Nixon Library—College Park, National Archives and Records Administration, 8601 Adelphi Road, College Park, MD 20740-6001.

Ronald Reagan Library, 40 Presidential Drive, Simi Valley, CA 93065-0600.

Franklin D. Roosevelt Library, 4079 Albany Post Road, Hyde Park, NY 12538-1999.

Harry S. Truman Library, 500 West U.S. Highway 24, Independence, MO 64050-1798.

If the system manager is the Assistant Archivist for Regional Records Services (NR), the records are located at the following address:

Office Regional Records Services (NR), National Archives and Records Administration, 8601 Adelphi Road, Room 3600, College Park, MD 20740-6001.

If the system manager is the director of a regional records services facility, the records are located at the appropriate regional records services facility:

NARA's Pacific Alaska Region (Anchorage), 654 West Third Avenue, Anchorage, Alaska 99501-2145.

NARA's Southeast Region (Atlanta), 5780 Jonesboro Road, Morrow, Georgia 30260.

NARA's Northeast Region (Boston), Frederick C. Murphy Federal Center, 380 Trapelo Road, Waltham, Massachusetts 02452-6399.

NARA's Great Lakes Region (Chicago), 7358 South Pulaski Road, Chicago, Illinois 60629-5898.

NARA's Great Lakes Region (Dayton), 3150 Springboro Road, Dayton, Ohio 45439-1883.

NARA's Rocky Mountain Region (Denver), Bldg. 48, Denver Federal Center, West 6th Avenue and Kipling Street, Denver, Colorado 80225-0307.

NARA's Southwest Region (Fort Worth), 1400 John Burgess Drive, Fort Worth, Texas 76140-6222.

NARA's Southwest Region (Fort Worth), 501 West Felix Street, Building 1, Fort Worth, Texas 76115-3405.

NARA's Central Plains Region (Kansas City), 2312 East Bannister Road, Kansas City, Missouri 64131-3061.

NARA's Pacific Region (Laguna Niguel, CA), 24000 Avila Road, 1st Floor, East Entrance, Laguna Niguel, California 92677-3497.

NARA's Pacific Region (Riverside, CA), 23123 Cajalco Road, Perris, California 92570-7298.

NARA's Central Plains Region (Lee's Summit, MO), 200 Space Center Drive, Lee's Summit, Missouri 64064-1182.

NARA's Northeast Region (New York City), 201 Varick Street, New York, New York 10014-4811.

NARA's Mid Atlantic Region (Center City Philadelphia), 900 Market Street, Philadelphia, Pennsylvania 19107-4292.

NARA's Mid Atlantic Region (Northeast Philadelphia), 14700 Townsend Road, Philadelphia, Pennsylvania 19154-1096.

NARA's Northeast Region (Pittsfield, MA), 10 Conte Drive, Pittsfield, Massachusetts 01201-8230.

NARA's Pacific Region (San Francisco), 1000 Commodore Drive, San Bruno, California 94066-2350.

NARA's Pacific Alaska Region (Seattle), 6125 Sand Point Way NE., Seattle, Washington 98115-7999.

National Personnel Records Center, Civilian Personnel Records, 111 Winnebago Street, St. Louis, Missouri 63118-4126.

National Personnel Records Center, Military Personnel Records, 9700 Page Avenue, St. Louis, MO 63132-5100.

If the system manager is the Director of the Information Security Oversight Office (ISOO), the records are located at the following address: Information Security Oversight Office (ISOO), National Archives and Records Administration, 700 Pennsylvania Avenue, NW., Room 100, Washington, DC 20408-0001.

If the system manager is the Director of the National Historical Publications and Records Commission (NHPRC), the records are located at the following address: National Historical Publications and Records Commission (NHPRC), National Archives and Records Administration, 700 Pennsylvania Avenue, NW., Room 106, Washington, DC 20408-0001.

If the system manager is the Director of the Policy and Planning Staff, the records are located at the following address: Policy and Planning Staff (NPOL), National Archives and Records Administration, 8601 Adelphi Road, Room 4100, College Park, MD 20740-6001.

If the system manager is the Assistant Archivist for Information Services, the records are located at the following address: Office of Information Services (NH), National Archives and Records Administration, 8601 Adelphi Road, Room 4400, College Park, MD 20740.

If the system manager is the Assistant Archivist for Administration, the records are located at the following address: Office of Administration (NA,) National Archives and Records Administration, 8601 Adelphi Road, Room 4200, College Park, MD 20740.

If the system manager is the Director of the Federal Register, the records are located at the following address: Office of the Federal Register (NF), National Archives and Records Administration, 700 Pennsylvania Avenue, NW., Washington, DC 20408-0001.

If the system manager is the Inspector General, the records are located at the following address: Office of the Inspector General (OIG), National Archives and Records Administration, 8601 Adelphi Road, Room 1300, College Park, MD 20740.

If the system manager is the General Counsel, the records are located at the following address: General Counsel (NGC), National Archives and Records Administration, 8601 Adelphi Road, Room 3110, College Park, MD 20740.

If the system manager is the Director of the Center for the National Archives Experience, the records are located at the following address: Center for the National Archives Experience (NWE), National Archives and Records Administration, 700 Pennsylvania Avenue, NW., Room G9, Washington, DC 20408-0001.

If the system manager is the Director of the Washington National Records Center, the records are located at the following address: Washington National Records Center (NWMW), National Archives and Records Administration, 4205 Suitland Road, Suitland, MD 20746-8001.

[FR Doc. E7-19351 Filed 10-2-07; 8:45 am]

BILLING CODE 7515-01-P